DEPARTMENT OF THE INTERIOR

Fish and Wildlife Service

50 CFR Part 20

[Docket No. FWS-HQ-MB-2013-0057; FF09M21200-134-FXMB1231099BPP0]

RIN 1018-AY87

Migratory Bird Hunting; Proposed Frameworks for Early-Season Migratory Bird Hunting Regulations; Notice of Meetings

AGENCY: Fish and Wildlife Service, Interior.

ACTION: Proposed rule; supplemental.

SUMMARY: The U.S. Fish and Wildlife Service (hereinafter Service or we) is proposing to establish the 2013-14 early-season hunting regulations for certain migratory game birds. We annually prescribe frameworks, or outer limits, for dates and times when hunting may occur and the maximum number of birds that may be taken and possessed in early seasons. Early seasons may open as early as September 1, and include seasons in Alaska, Hawaii, Puerto Rico, and the U.S. Virgin Islands. These frameworks are necessary to allow State selections of specific final seasons and limits and to allow recreational harvest at levels compatible with population status and habitat conditions. This proposed rule also provides the final regulatory alternatives for the 2013-14 duck hunting seasons.

DATES: Comments: You must submit comments on the proposed early-season frameworks by August 5, 2013.

Meetings: The Service Migratory Bird Regulations Committee (SRC) will meet to consider and develop proposed regulations for late-season migratory bird hunting and the 2013 spring/summer migratory bird subsistence seasons in Alaska on July 31 and August 1, 2013. All meetings will commence at approximately 8:30 a.m.

ADDRESSES: Comments: You may submit comments on the proposals by one of the following methods:

• Federal eRulemaking Portal: http://www.regulations.gov. Follow the instructions for submitting comments on Docket No. FWS-HQ-MB-2013-0057.

• U.S. mail or hand-delivery: Public Comments Processing, Attn: FWS-HQ-MB-2013-0057; Division of Policy and Directives Management; U.S. Fish and Wildlife Service; 4401 N. Fairfax Drive, MS 2042-PDM; Arlington, VA 22203. We will not accept emailed or faxed comments. We will post all comments on http://www.regulations.gov. This generally means that we will post any personal information you provide us (see the Public Comments section below for more information).

Meetings: The SRC will meet in room 200 of the U.S. Fish and Wildlife Service's Arlington Square Building, 4401 N. Fairfax Dr., Arlington, VA 22203.

FOR FURTHER INFORMATION CONTACT: Ron W. Kokel, U.S. Fish and Wildlife Service, Department of the Interior, MS MBSP-4107-ARLSQ, 1849 C Street NW., Washington, DC 20240; (703) 358-1714.

SUPPLEMENTARY INFORMATION:

Regulations Schedule for 2013

On April 9, 2013, we published in the Federal Register (78 FR 21200) a proposal to amend 50 CFR part 20. The proposal provided a background and overview of the migratory bird hunting regulations process, and addressed the establishment of seasons, limits, and other regulations for hunting migratory game birds under §§ 20.101 through 20.107, 20.109, and 20.110 of subpart K. Major steps in the 2013-14 regulatory cycle relating to open public meetings and Federal Register notifications were also identified in the April 9 proposed rule.

Further, we explained that all sections of subsequent documents outlining hunting frameworks and guidelines were organized under numbered headings. Those headings are:

1. Ducks

A. General Harvest Strategy

B. Regulatory Alternatives

C. Zones and Split Seasons

D. Special Seasons/Species Management

i. September Teal Seasons

ii. September Teal/Wood Duck Seasons

iii. Black ducks

iv. Canvasbacks

v. Pintails

vi. Scaup

vii. Mottled ducks

viii. Wood ducks

ix. Youth Hunt

x. Mallard Management Units

xi. Other

2. Sea Ducks

3. Mergansers

4. Canada Geese

A. Special Seasons

B. Regular Seasons

C. Special Late Seasons

5. White-fronted Geese

6. Brant

7. Snow and Ross's (Light) Geese

8. Swans

9. Sandhill Cranes

10. Coots

11. Moorhens and Gallinules

12. Rails

13. Snipe

14. Woodcock

15. Band-tailed Pigeons

16. Doves

17. Alaska

18. Hawaii

19. Puerto Rico

20. Virgin Islands

21. Falconry

22. Other

Subsequent documents will refer only to numbered items requiring attention. Therefore, it is important to note that we will omit those items requiring no attention, and remaining numbered items will be discontinuous and appear incomplete.

On June 14, 2013, we published in the Federal Register (78 FR 35844) a second document providing supplemental proposals for early- and late-season migratory bird hunting regulations. The June 14 supplement also provided detailed information on the 2013-14 regulatory schedule and announced the SRC and Flyway Council meetings.

This document, the third in a series of proposed, supplemental, and final rulemaking documents for migratory bird hunting regulations, deals specifically with proposed frameworks for early-season regulations and the regulatory alternatives for the 2013-14 duck hunting seasons. It will lead to final frameworks from which States may select season dates, shooting hours, and daily bag and possession limits for the 2013-14 season.

We have considered all pertinent comments received through June 22, 2013, on the April 9 and June 14, 2013, rulemaking documents in developing this document. In addition, new proposals for certain early-season regulations are provided for public comment. Comment periods are specified above under DATES. We will publish final regulatory frameworks for early seasons in the Federal Register on or about August 16, 2013.

Service Migratory Bird Regulations Committee Meetings

Participants at the June 19-20, 2013, meetings reviewed information on the current status of migratory shore and upland game birds and developed 2013-14 migratory game bird regulations recommendations for these species plus regulations for migratory game birds in Alaska, Puerto Rico, and the U.S. Virgin Islands; special September waterfowl seasons in designated States; special sea duck seasons in the Atlantic Flyway; and extended falconry seasons. In addition, we reviewed and discussed preliminary information on the status of waterfowl.

Participants at the previously announced July 31-August 1, 2013, meetings will review information on the current status of waterfowl and develop recommendations for the 2013-14 regulations pertaining to regular waterfowl seasons and other species and seasons not previously discussed at the early-season meetings. In accordance with Department of the Interior policy, these meetings are open to public observation and you may submit comments on the matters discussed.

Population Status and Harvest

The following paragraphs provide preliminary information on the status of waterfowl and information on the status and harvest of migratory shore and upland game birds excerpted from various reports. For more detailed information on methodologies and results, you may obtain complete copies of the various reports at the address indicated under FOR FURTHER INFORMATION CONTACT or from our Web site at http://www.fws.gov/migratorybirds/NewsPublicationsReports.html.

Waterfowl Breeding and Habitat Survey

Federal, provincial, and State agencies conduct surveys each spring to estimate the size of waterfowl breeding populations and to evaluate the conditions of the habitats. These surveys are conducted using fixed-wing aircraft, helicopters, and ground crews and encompass principal breeding areas of North America, covering an area over 2.0 million square miles. The traditional survey area comprises Alaska, Canada, and the northcentral United States, and includes approximately 1.3 million square miles. The eastern survey area includes parts of Ontario, Quebec, Labrador, Newfoundland, Nova Scotia, Prince Edward Island, New Brunswick, New York, and Maine, an area of approximately 0.7 million square miles.

Overall, despite a delayed spring, habitat conditions during the 2013 Waterfowl Breeding Population and Habitat Survey were improved or similar to last year in many areas due to abundant winter or spring precipitation, with the exception of eastern Canada, the northeast United States, and portions of Montana and the Dakotas. The total pond estimate (Prairie Canada and United States combined) was 6.9±0.2 million. This was 24 percent higher than the 2012 estimate of 5.5±0.2 million ponds, and 35 percent higher than the long-term average (1974-2012) of 5.1±0.03 million ponds.

Traditional Survey Area (U.S. and Canadian Prairies and Parklands)

Spring was much delayed across the traditional survey area. Extreme southern Saskatchewan, southern Manitoba, and North Dakota received abundant spring rainfall; most of this moisture came too late for the majority of waterfowl breeding this year, but could benefit habitats into 2014. The majority of the Canadian prairies had above-average winter precipitation; however, a poor frost seal was produced and little runoff was observed. The Parklands have improved from 2012, and the boreal region has benefitted from average annual precipitation. Most of the Canadian portion of the traditional survey area was rated as good or excellent this year, in contrast to the dry conditions last year across northern Saskatchewan and Alberta. The 2013 estimate of ponds in Prairie Canada was 4.6±0.2 million. This was 17 percent higher than last year's estimate (3.9±0.1 million) and 32 percent higher than the 1961-2012 average (3.5±0.03 million).

The U.S. prairies received record-breaking snowfall in April; however, below-average early spring precipitation in parts of Montana and the eastern Dakotas resulted in fair to poor habitat conditions. The 2013 estimate of ponds in the north-central United States was 2.3±0.1 million, which was 41 percent higher than last year's estimate (1.7±0.1 million) and 42 percent higher than the 1974-2012 average (1.7±0.02 million).

Eastern Survey Area

Spring temperatures in the eastern survey area were closer to normal than in the traditional survey area. Winter precipitation in southwestern Ontario, southern Quebec, and most of the Maritimes was below average. Eastern Canada experienced near record low winter precipitation but improved to the north and east into the Maritimes. Much of eastern Canada experienced excessive late-spring rains, which may have inhibited waterfowl production. Habitat conditions ranged from fair, in Maine and the southern Maritimes, to good in Newfoundland and Labrador.

Status of Teal

The estimate of blue-winged teal from the traditional survey area is 7.7 million. This count represents a 16 percent decrease from 2012, and is 60 percent above the 1955-2012 average.

Sandhill Cranes

Compared to increases recorded in the 1970s, annual indices to abundance of the Mid-Continent Population (MCP) of sandhill cranes have been relatively stable since the early 1980s. The preliminary spring 2013 index for sandhill cranes in the Central Platte River Valley (CPRV), Nebraska, uncorrected for visibility bias, was 756,217 birds. This estimate is significantly higher than the previous 5 years, which is likely due to late winter weather in North and South Dakota delaying any migration from the CPRV. The photo-corrected, 3-year average for 2010-12 was 504,658, which is above the established population-objective range of 349,000-472,000 cranes. All Central Flyway States, except Nebraska, allowed crane hunting in portions of their States during 2012-13. An estimated 7,239 hunters participated in these seasons, which was 7 percent lower than the number that participated in the previous season. Hunters harvested 14,887 MCP cranes in the U.S. portion of the Central Flyway during the 2012-13 seasons, which was 3 percent lower than the harvest for the previous year and 2 percent higher than the long-term average. The retrieved harvest of MCP cranes in hunt areas outside of the Central Flyway (Arizona, Pacific Flyway portion of New Mexico, Minnesota, Alaska, Canada, and Mexico combined) was 9,683 during 2012-13. The preliminary estimate for the North American MCP sport harvest, including crippling losses, was 27,966 birds, which was a 16 percent decrease from the previous year's estimate. The long-term (1982-2012) trends for the MCP indicate that harvest has been increasing at a higher rate than population growth.

The fall 2012 pre-migration survey for the Rocky Mountain Population (RMP) resulted in a count of 15,417 cranes. The 3-year average was 17,992 sandhill cranes, which is within the established population objective of 17,000-21,000 for the RMP. Hunting seasons during 2012-13 in portions of Arizona, Idaho, Montana, New Mexico, Utah, and Wyoming resulted in a harvest of 1,080 RMP cranes, an 11 percent decrease from the previous year's harvest.

The Lower Colorado River Valley Population (LCRVP) survey results indicate a 16 percent increase from 2,646 birds in 2012, to 3,078 birds in 2013. The 3-year average is 2,713 LCRVP cranes, which is above the population objective of 2,500.

The Eastern Population (EP) sandhill crane fall survey index (87,796) increased by 21 percent in 2012, and in Kentucky's second hunting season 92 cranes were harvested, up from 50 cranes in the inaugural season.

Woodcock

Singing-ground and Wing-collection Surveys were conducted to assess the population status of the American woodcock (Scolopax minor). The Singing-ground Survey is intended to measure long-term changes in woodcock population levels. Singing-ground Survey data for 2013 indicate that the number of singing male woodcock per route in the Eastern and Central Management Regions were unchanged from 2012. There were no significant 10-year trends in woodcock heard in the Eastern or Central Management Regions during 2003-13, which marks the tenth consecutive year that the 10-year trend estimate for the Eastern Region was stable and the third year that the 10-year trend was stable for the Central Region. Both management regions have a long-term (1968-2012) declining trend (−1.0 percent per year in the Eastern Management Region and −0.8 percent per year in the Central Management Region).

The Wing-collection Survey provides an index to recruitment. Wing-collection Survey data indicate that the 2012 recruitment index for the U.S. portion of the Eastern Region (1.65 immatures per adult female) was 1.9 percent less than the 2011 index, and 0.8 percent greater than the long-term (1963-2011) average. The recruitment index for the U.S. portion of the Central Region (1.66 immatures per adult female) was 8.0 percent greater than the 2011 index and 5.7 percent greater than the long-term (1963-2011) average.

Band-Tailed Pigeons

Two subspecies of band-tailed pigeon occur north of Mexico, and are managed as two separate populations: Interior and Pacific Coast. Information on the abundance and harvest of band-tailed pigeons is collected annually in the United States and British Columbia. Abundance information comes from the Breeding Bird Survey (BBS) and the Mineral Site Survey (MSS, specific to the Pacific Coast Population). Harvest and hunter participation are estimated from the Migratory Bird Harvest Information Program (HIP). The BBS provided evidence that the abundance of Pacific Coast band-tailed pigeons decreased (−2.0 percent per year) over the long term (1968-2012). Trends in abundance during the recent 10- and 5-year periods were inconclusive. The MSS, however, provided some evidence that abundance decreased during the recent 9-year (−4.7 percent per year) and 5-year (−4.0 percent per year) periods, but results were inconclusive. An estimated 3,900 hunters harvested 10,900 birds in 2012.

For Interior band-tailed pigeons, the BBS provided evidence that abundance decreased (−5.1 percent per year) over the long term (1968-2012). Trends in abundance during the recent 10- and 5-year periods were inconclusive. An estimated 1,400 hunters harvested 2,900 birds in 2012.

Mourning Doves

We annually summarize information collected in the United States on survival, recruitment, abundance and harvest of mourning doves. We report on trends in the number of doves heard per route from the Mourning Dove Call-count Survey (CCS), doves seen per route from the CCS, birds heard and seen per route from the all-bird BBS, and provide absolute abundance estimates based on band recovery and harvest data. Harvest and hunter participation are estimated from the HIP.

The CCS-heard data suggested that abundance of doves decreased in all three dove management units (Eastern [EMU], Central [CMU], and Western [WMU]) over the long term (1966-2013); within the EMU, however, there is evidence that abundance decreased in hunt States but increased in non-hunt States. In the recent 10 years, there was no evidence for a change in mourning dove abundance in the EMU, but there was evidence of a decline in the CMU and WMU. Over the most recent two years, there was no evidence for a change in abundance in any of the management units. Over the long term, trends based on CCS-heard and CCS-seen data were consistent in the CMU and WMU, but inconsistent in the EMU; CCS-seen data indicated that abundance increased in the EMU. BBS data suggested that the abundance of mourning doves over the long-term increased in the EMU and decreased in the CMU and WMU. Thus, over the long term, the three data sets provided consistent results for the CMU and WMU but not the EMU.

Estimates of absolute abundance are available only since 2003, and indicate that there are about 349 million doves in the United States, and annual abundance during the recent 5 years appears stationary in the EMU and WMU, but may be declining in the CMU. However, abundance appeared to increase between 2011 and 2012 in the CMU and WMU. Based on a composite trend (weighted trend estimate using information from the CCS, BBS, and absolute abundance), the EMU and WMU populations were stationary over the previous 5 and 10 years, whereas the population in the CMU declined.

Current (2012) HIP estimates for mourning dove total harvest, active hunters, and total days afield in the U.S. were 14,490,800 birds, 828,900 hunters, and 2,538,000 days afield. Harvest and hunter participation at the unit level were: EMU, 6,279,900 birds, 349,600 hunters, and 1,015,600 days afield; CMU, 6,361,600 birds, 338,700 hunters, and 1,108,700 days afield; and WMU, 1,849,400 birds, 140,700 hunters, and 413,700 days afield.

White-Winged Doves

Two states harbor substantial populations of white-winged dove: Arizona and Texas. California and New Mexico also have substantial but smaller populations. Based on the preliminary HIP report for 2012, white-winged doves were harvested in 22 additional states. The Arizona Game and Fish Department monitors white-winged dove populations by means of a CCS to provide an annual index to population size. It runs concurrently with the Service's Mourning Dove CCS. The index of mean number of white-winged doves heard per route from this survey peaked at 52.3 in 1968, but then declined until about 2000. The index had stabilized at around 25 doves per route in the last few years; however, for 2013, the mean number of doves heard per route was 16.8. Harvest of white-winged doves in Arizona peaked in the late 1960s at approximately 740,000 birds, and has since declined and stabilized at around 100,000 birds; the preliminary 2012 HIP estimate of harvest was 86,000 birds.

In Texas, white-winged doves continue to expand their breeding range. Nesting by white-winged doves has been recorded in most counties, with new colonies recently found in east Texas. Nesting is essentially confined to urban areas, but appears to be expanding to exurban areas. Concomitant with this range expansion has been a continuing increase in white-winged dove abundance. A new distance-based sampling protocol was implemented for Central and South Texas in 2007, and has been expanded each year. In 2010, 4,650 points were surveyed statewide and the urban population of breeding white-winged doves was estimated at 4.6 million. Additionally, the Texas Parks and Wildlife Department has an operational white-winged dove banding program and has banded 52,001 white-winged doves from 2006 to 2010. The estimated harvest of white-wings in Texas in the 2012 season was 1,414,800 birds. The Texas Parks and Wildlife Department continues to work to improve the scientific basis for management of white-winged doves.

In California, Florida, Louisiana, New Mexico and Texas BBS data indicate an increasing trend in the population indices between 1966 and 2011. In Arizona BBS data indicate population indices were stationary between 1966 and 2011. According to HIP surveys, the preliminary harvest estimates for the 2012 season were 42,200 white-winged doves in California, and 79,500 in New Mexico. In 2012 white-winged doves were also harvested (range 100 to 8,700 per state) in Alabama, Arkansas, Colorado, Florida, Georgia, Idaho, Illinois, Kentucky, Minnesota, Mississippi, Nebraska, Nevada, Oklahoma, Oregon, Pennsylvania, South Carolina, Tennessee, Texas, Utah, Virginia, Washington, and Wyoming.

White-Tipped Doves

White-tipped doves occur primarily south of the United States-Mexico border; however, the species does occur in Texas. Monitoring information is presently limited. White-tipped doves are believed to be maintaining a relatively stable population in the Lower Rio Grande Valley of Texas. Distance-based sampling procedures implemented in Texas are also providing limited information on white-tipped dove abundance. Texas is working to improve the sampling frame to include the rural Rio Grande corridor in order to improve the utility of population indices. Annual estimates for white-tipped dove harvest in Texas average between 3,000 and 4,000 birds.

Review of Public Comments

The preliminary proposed rulemaking (April 9 Federal Register) opened the public comment period for migratory game bird hunting regulations and announced the proposed regulatory alternatives for the 2013-14 duck hunting season. Comments concerning early-season issues and the proposed alternatives are summarized below and numbered in the order used in the April 9 Federal Register document. Only the numbered items pertaining to early-seasons issues and the proposed regulatory alternatives for which we received written comments are included. Consequently, the issues do not follow in consecutive numerical or alphabetical order.

We received recommendations from all four Flyway Councils. Some recommendations supported continuation of last year's frameworks. Due to the comprehensive nature of the annual review of the frameworks performed by the Councils, support for continuation of last year's frameworks is assumed for items for which no recommendations were received. Council recommendations for changes in the frameworks are summarized below.

We seek additional information and comments on the recommendations in this supplemental proposed rule. New proposals and modifications to previously described proposals are discussed below. Wherever possible, they are discussed under headings corresponding to the numbered items in the April 9 Federal Register document.

1. Ducks

Categories used to discuss issues related to duck harvest management are: (A) General Harvest Strategy; (B) Regulatory Alternatives, including specification of framework dates, season lengths, and bag limits; (C) Zones and Split Seasons; and (D) Special Seasons/Species Management. The categories correspond to previously published issues/discussions, and only those containing substantial recommendations are discussed below.

A. General Harvest Strategy

Council Recommendations: The Mississippi Flyway Council recommended that regulations changes be restricted to one step per year, both when restricting as well as liberalizing hunting regulations.

Service Response: As we stated in the April 9 Federal Register, we intend to continue use of Adaptive Harvest Management (AHM) to help determine appropriate duck-hunting regulations for the 2013-14 season. AHM is a tool that permits sound resource decisions in the face of uncertain regulatory impacts, as well as providing a mechanism for reducing that uncertainty over time. The current AHM protocol is used to evaluate four alternative regulatory levels based on the population status of mallards and their breeding habitat (i.e., abundance of ponds) (special hunting restrictions are enacted for certain species, such as canvasbacks, black ducks, scaup, and pintails).

Unfortunately, this year a mechanical issue with the Service aircraft normally used in the Eastern Survey Area of the May Breeding Population and Habitat Survey prohibited the use of those aircraft to conduct this year's survey. Lack of reliable data from Canadian survey strata (51-54, 56) precludes a reliable estimate of the Eastern mallard breeding population for 2013. As a result, an observed 2013 breeding population (BPOP) estimate will not be available for updating model weights and deriving the 2013 harvest policy. Therefore, we propose to predict the 2013 BPOP size based on the 2012 BPOP estimate and 2012 model weights, the 2012-13 harvest rate, and the current model set. That predicted value will be used in place of the observed value for this year, and that value will be compared with last year's (2012) AHM harvest policy matrix to determine the optimal regulatory alternative for the 2013-14 regular duck seasons in the Atlantic Flyway. Further details on these proposed technical changes will be detailed in the forthcoming AHM report for the 2013 season.

Regarding the Mississippi Flyway Council's recommendation for a one-step constraint, we have repeatedly stated over the past several years that we believe that the new Supplemental Environmental Impact Statement (SEIS) for the migratory bird hunting program (see National Environmental Policy Act (NEPA) section) is the appropriate venue for considering such changes in a more comprehensive manner that involves input from all Flyways. With the May 24, 2013, release of the new SEIS and the associated Record of Decision (RoD) contained in this rule, we believe that any recommendations for changes such as the inclusion of a one-step constraint should be considered within the context of the process that is being used to revise current AHM protocols. As AHM decision-making frameworks are modified, regulatory alternatives should be crafted by the Flyways in the context of those changes, including revised harvest management objectives and the demographic models that predict changes in waterfowl status due to those regulations.

We will propose a specific regulatory alternative for each of the Flyways during the 2013-14 season after survey information becomes available later this summer. More information on AHM is located at http://www.fws.gov/migratorybirds/CurrentBirdIssues/Management/AHM/AHM-intro.htm.

B. Regulatory Alternatives

Council Recommendations: The Mississippi and Central Flyway Councils recommended that regulatory alternatives for duck hunting seasons remain the same as those used in 2012-13.

Service Response: The regulatory alternatives proposed in the April 9 Federal Register will be used for the 2013-14 hunting season (see accompanying table at the end of this proposed rule for specifics). In 2005, the AHM regulatory alternatives were modified to consist only of the maximum season lengths, framework dates, and bag limits for total ducks and mallards. Restrictions for certain species within these frameworks that are not covered by existing harvest strategies will be addressed during the late-season regulations process. For those species with specific harvest strategies (canvasbacks, pintails, black ducks, and scaup), those strategies will again be used for the 2013-14 hunting season.

D. Special Seasons/Species Management

i. Special Teal Seasons

Council Recommendations: The Atlantic, Mississippi, and Central Flyway Councils recommended that the daily bag limit be increased from 4 to 6 teal in the aggregate during the Special September teal season. The Atlantic Flyway Council also recommended that we allow Maryland to adjust existing shooting hours during the Special September teal season from sunrise to one-half hour before sunrise on an experimental basis during 2013-15 seasons.

Service Response: We appreciate the long-standing interest by the Flyway Councils to pursue additional teal harvest opportunity. With this interest in mind, in 2009, the Flyways and Service began to assess the collective results of all teal harvest, including harvest during special September seasons. The Teal Harvest Potential Working Group conducted this assessment work, which included a thorough assessment of the harvest potential for both blue-winged and green-winged teal, as well as an assessment of the impacts of current special September seasons on these two species. Cinnamon teal were subsequently included in this assessment.

In the April 9, 2013, Federal Register, we stated that the final report of the Teal Harvest Potential Working Group indicated that additional opportunity could be provided for blue-winged teal and green-winged teal. Therefore, we support recommendations from the Atlantic, Mississippi, and Central Flyway Councils that the daily bag limit be increased from 4 to 6 teal in the aggregate during the Special September teal season in 2013-14. However, we will not support additional changes to the structure of the September teal season until specific management objectives for teal have been articulated and a comprehensive, cross-flyway approach to developing and evaluating other potential avenues by which additional teal harvest opportunity can be provided has been completed. We recognize this comprehensive approach may include addition of new hunting seasons (e.g., September teal seasons in northern States) as well as expanded hunting opportunities (e.g., season lengths, bag limits) in States with existing teal seasons. In order to assess the overall effects of these changes, an evaluation plan must be developed that includes specific objectives and is tailored to appropriately address concerns about potential impacts resulting from the type of opportunity offered. We outlined guidance for conducting special season evaluations in SEIS 88 (Controlled Use of Special Regulations, pp 82-83) which should be used when developing the plan. We recognize that additional technical and coordination work will need to be accomplished to complete this task, thus, a small technical group comprised of members from the Flyway Councils and Service should be convened. We look forward to working with the Flyway Councils in undertaking the technical work needed to develop regulatory proposals, and would expect a progress report on such work at the February 2014 Service Regulations Committee meeting.

In the interest of guiding State and Federal workloads and facilitating a timely process for providing additional teal harvest opportunity, we provide the following initial considerations. First, we have stated that the primary focus of special season regulations is underutilized species and/or stocks whose migration and distribution provide opportunities outside the time period in which regular seasons are held, and where such harvest can occur without appreciable impacts to non-target species (SEIS 2013). Although the Teal Harvest Potential Working Group's report documented the existence of additional blue-winged and green-winged teal harvest opportunity, we believe the unique migration behavior of blue-winged teal presents the opportunity to isolate only that species both temporally and geographically, consistent with the intent of special regulations. Consequently, regulatory proposals to increase teal harvest should direct harvest primarily at blue-winged teal.

Second, previous alternatives to provide additional teal harvest opportunities have included bonus teal, Special September duck seasons in Iowa, and Special September teal/wood duck seasons. Following implementation of the SEIS 88 regarding the sport hunting of migratory birds, all of these efforts were reviewed. Assessments of special hunting opportunities, including September teal seasons and bonus teal bags, were conducted. The results of these reviews indicated that the September teal seasons could adequately be assessed regarding their effects on migratory birds, but that bonus teal regulations could not. Thus, in the early 1990s, bonus teal bags were no longer offered in the annual duck regulations frameworks. With regard to Special September duck seasons, we have previously stated that mixed-species special seasons (as defined in the context of SEIS 88) are not a preferred management approach, and that we do not wish to entertain refinements to this season or foster expansions of this type of season into other States (August 29, 1996, 61 FR 45838). Special September teal/wood duck seasons in Florida, Tennessee and Kentucky have been provided in lieu of Special September teal seasons and our preference at this time is to maintain that policy. If Flyway Councils wish to pursue these regulatory approaches to providing additional teal harvest opportunity, we request that they provide compelling information as to why such policies and approaches should be reinstated (i.e., bonus teal) or expanded/modified (i.e., September duck seasons or September teal/wood duck seasons).

A copy of the teal working group's final report is available on our Web site at either http://www.fws.gov/migratorybirds, or at http://www.regulations.gov.

Regarding the regulations for this year, utilizing the criteria developed for the teal season harvest strategy, this year's estimate of 7.7 million blue-winged teal from the traditional survey area indicates that a 16-day September teal season in the Atlantic, Central, and Mississippi Flyways is appropriate for 2013.

Regarding the Atlantic Flyway Council's request to allow Maryland to adjust existing shooting hours during the Special September teal season from sunrise to sunset to one-half hour before sunrise to sunset on an experimental basis, we agree. Since the inception of Maryland's September teal season in 1998, Maryland has utilized shooting hours of sunrise to sunset. Maryland has agreed to conduct hunter performance surveys to assess the impacts of the expanded shooting hours on non-target waterfowl species. The hunter performance survey and assessment criteria will be specified in an agreement between Maryland and the Service.

2. Sea Ducks

Council Recommendations: The Atlantic Flyway Council recommended that the Service amend the annual waterfowl hunting regulations at 50 CFR 20.105 to allow the shooting of crippled waterfowl from a motorboat under power in New Jersey, North Carolina, South Carolina, and Georgia in those areas described, delineated, and designated in their respective hunting regulations as special sea duck hunting areas.

Service Response: We concur with the Atlantic Flyway's recommendation and note that this provision is already allowed in all other Atlantic Flyway States with special sea duck hunting areas. Sea duck hunting areas are typically large, open water areas (i.e., Atlantic Ocean) at least 800 yards from shore where it is not reasonable to use retrieving dogs. Further, all States with sea duck seasons have defined special sea duck hunting areas described, delineated, and designated in their respective hunting regulations as special sea duck hunting areas.

4. Canada Geese

A. Special Seasons

Council Recommendations: The Mississippi Flyway Council recommended increasing the daily bag limit in Minnesota from 5 geese to 10 geese during the special September season in certain areas of the State. The Council further recommended that there be no possession limits for Canada geese in either special seasons or regular seasons (see 22. Other for further discussion on possession limits).

Service Response: We agree with the Mississippi Flyway Council's request to increase the Canada goose daily bag limit within certain areas that have experienced higher levels of agricultural depredations in Minnesota. The Special Early Canada Goose hunting season is generally designed to reduce or control overabundant resident Canada geese populations. Increasing the daily bag limit from 5 to 10 geese in certain areas may help reduce or control existing high populations of resident Canada geese and associated agricultural depredation problems. Nest and egg permits, airport removal, trap and euthanize, and agricultural shooting permits have all been used in efforts to address damage caused by overabundant Canada geese. In 2012, a record number of shooting permits (234) were issued to landowners dealing with excessive numbers of Canada geese causing agricultural damage.

The breeding population of resident Canada geese in Minnesota has averaged 332,000 Canada geese, since 2001, which is 33 percent higher than the goal of 250,000 Canada geese. In 2012, the breeding population estimate was 434,000 Canada geese, which was the highest estimate on record and 74 percent above the population goal. Annual harvest of Canada geese in Minnesota has averaged 220,000 since 2001, with harvest during the September season averaging 98,000 Canada geese. Further, Minnesota has used a variety of methods to increase the harvest of resident Canada geese, including an expanded September season (Sept. 1 through 22) and expanded opportunity during the regular season.

Bag limits for Canada geese above 5 per day during the September season have not yet been used in the Mississippi Flyway during September seasons. Based on bag frequency data from Atlantic Flyway States that have utilized Canada goose daily bag limits of 15 during September seasons, increasing the daily bag limit from 5 to 10 is expected to increase Canada goose harvest approximately 16 percent during the September season. Thus, a daily bag limit of 10 geese implemented Statewide in Minnesota during the September season would be expected to increase the annual harvest from 98,000 to 114,000 during the September season.

B. Regular Seasons

Council Recommendations: The Mississippi Flyway Council recommended that the framework opening date for all species of geese for the regular goose seasons in the Lower Peninsula of Michigan and Wisconsin be September 16, 2013, and in the Upper Peninsula of Michigan be September 11, 2013. The Council further recommended that there be no possession limits for Canada geese throughout the Flyway (see 22. Other for further discussion on possession limits).

Service Response: We concur with recommended framework opening dates. Michigan, beginning in 1998, and Wisconsin, beginning in 1989, have opened their regular Canada goose seasons prior to the Flyway-wide framework opening date to address resident goose management concerns in these States. As we have previously stated (73 FR 50678, August 27, 2008), we agree with the objective to increase harvest pressure on resident Canada geese in the Mississippi Flyway and will continue to consider the opening dates in both States as exceptions to the general Flyway opening date, to be reconsidered annually. The framework closing date for the early goose season in the Upper Peninsula of Michigan is September 10. By changing the framework opening date for the regular season to September 11 in the Upper Peninsula of Michigan there will be no need to close goose hunting in that area for 5 days and thus lose the ability to maintain harvest pressure on resident Canada geese. We note that the most recent resident Canada goose estimate for the Mississippi Flyway was a record high 1,767,900 geese during the spring of 2012, 8 percent higher than the 2011 estimate of 1,629,800 geese, and well above the Flyway's population goal of 1.18 to 1.40 million birds. See 23. Other for further discussion on possession limits.

9. Sandhill Cranes

Council Recommendations: The Mississippi Flyway Council recommended implementation of a 3-year, experimental 60-day sandhill crane season in Tennessee beginning in the 2013-14 season.

The Central Flyway Council recommended increasing the season length in North Dakota's eastern sandhill crane hunting zone (Area 2) from 37 to 58 days in length.

The Central and Pacific Flyway Councils recommend using the 2013 Rocky Mountain Population (RMP) sandhill crane harvest allocation of 771 birds as proposed in the allocation formula using the 3-year running average of fall population estimates for 2010-12.

Service Response: We concur with the Mississippi Flyway Council's recommendation concerning an experimental season in Tennessee. We note that a management plan for the Eastern Population of sandhill cranes was approved by the Atlantic and Mississippi Flyway Councils in 2010. The plan contained provisions and guidelines for establishing hunting seasons in the Mississippi and Atlantic Flyway States if the fall population was above a minimum threshold of 30,000 cranes. The management plan also sets an overall harvest objective for an individual State to be no more than 10 percent of the 5-year average peak population estimate in that State. Since Tennessee's 5-year average peak population count is 23,334 cranes, the State's maximum allowable harvest would be 2,333 cranes. Tennessee's proposed experimental season would limit the number of crane hunters to 775 with each hunter receiving 3 tags for a maximum allowed harvest of 2,325 cranes. Given Tennessee's proposed harvest monitoring system, the maximum allowed harvest of 2,333 cranes cannot be exceeded.

Additionally, we prepared a draft environmental assessment (EA) on the hunting of EP sandhill cranes in Tennessee as allowed under the management plan. A copy of the draft EA and specifics of the two alternatives we analyzed can be found on our Web site at http://www.fws.gov/migratorybirds, or at http://www.regulations.gov. Our EA outlines two different approaches for assessing the ability of the EP crane population to withstand the level of harvest contained in EP management plan: (1) The potential biological removal allowance method; and (2) a simple population model using fall survey data and annual survival rates. The EA concluded that the anticipated combined level of harvest and crippling loss in Tennessee could be sustained by the proposed hunt. Furthermore, population modeling indicated that any harvest below 2,000 birds would still result in a growing population of EP cranes. We anticipate that the proposed action to allow a new experimental EP crane hunt in Tennessee, combined with the existing experimental EP crane season in Kentucky, would result in a potential take of 1,875 cranes, or only 2.7 percent of the EP population being harvested, which is lower than the percentage currently experienced in either the RMP or Mid-continent Population. Thus, we believe the proposed action would still allow positive growth of the EP sandhill crane population. We further believe that we have fulfilled our NEPA obligation with the preparation of an EA, and therefore an EIS is not required.

The proposed crane hunt in Tennessee would begin in early December and continue until late January. These proposed season dates would begin approximately 2 to 3 weeks after whooping cranes are normally migrating through Tennessee and would reduce the likelihood that sandhill crane hunters would encounter whooping cranes. We further note that whooping cranes that migrate through Tennessee are part of the experimental nonessential population of whooping cranes (NEP). In 2001, the Service announced its intent to reintroduce whooping cranes (Grus americana) into historic habitat in the eastern United States with the intent to establish a migratory flock that would summer and breed in Wisconsin, and winter in west-central Florida (66 FR 14107, March 9, 2001). We designated this reintroduced population as an NEP according to section 10(j) of the Endangered Species Act of 1973 (Act), as amended (66 FR 33903, June 26, 2001). Mississippi and Atlantic Flyway States within the NEP area maintain their management prerogatives regarding the whooping crane. They are not directed by the reintroduction program to take any specific actions to provide any special protective measures, nor are they prevented from imposing restrictions under State law, such as protective designations, and area closures.

We also support the Central Flyway Council's recommendation to increase the season length for midcontinent sandhill cranes in the eastern zone of North Dakota (Area 2). However, we believe additional information recently published on the demographics of this population should be incorporated into a revised management plan, and that the revised plan should include more specificity regarding how harvest opportunities should be expanded and restricted based on population status and harvest. Such a process is essential to successful, collaborative management of shared populations by the Service and the Flyways. We do not want to address regulatory changes in an incremental manner and believe codifying specifically in a management plan how such changes in harvest opportunities will occur would achieve that end.

We also agree with the Central and Pacific Flyway Councils' recommendations on the RMP sandhill crane harvest allocation of 771 birds for the 2013-14 season, as outlined in the RMP sandhill crane management plan's harvest allocation formula. The objective for RMP sandhill cranes is to manage for a stable population index of 17,000-21,000 cranes determined by an average of the three most recent, reliable September (fall pre-migration) surveys. Additionally, the RMP management plan allows for the regulated harvest of cranes when the 3-year average of the population indices exceeds 15,000 cranes. In 2012, 15,417 cranes were counted in the September survey, a decrease from the previous year's count of 17,494 birds. The most recent 3-year average for the RMP sandhill crane fall index is 17,992, a decrease from the previous 3-year average of 19,626.

14. Woodcock

In 2011, we implemented an interim harvest strategy for woodcock for a period of 5 years (2011-15) (76 FR 19876, April 8, 2011). The interim harvest strategy provides a transparent framework for making regulatory decisions for woodcock season length and bag limit while we work to improve monitoring and assessment protocols for this species. Utilizing the criteria developed for the interim strategy, the 3-year average for the Singing Ground Survey indices and associated confidence intervals fall within the “moderate package” for both the Eastern and Central Management Regions. As such, a “moderate season” for both management regions for the 2013-14 woodcock hunting season is appropriate for 2013. Specifics of the interim harvest strategy can be found at http://www.fws.gov/migratorybirds/NewsPublicationsReports.html.

15. Band-Tailed Pigeons

Council Recommendations: The Pacific Flyway Council recommended reducing the daily bag limit from 5 to 2 pigeons for the Interior Population.

Service Response: We have a long-standing practice of giving considerable deference to harvest strategies developed in cooperative Flyway management plans. However, a harvest strategy does not exist for the Interior Population of band-tailed pigeons even though the development of one was identified as a high priority when the management plan was adopted in 2001. Because the Pacific Flyway Council's recommendation is not supported by the Central Flyway at this time, we recommend that the two Flyway Councils discuss this issue and advise us of the results of these deliberations in their respective recommendation packages from their meetings next March. It is our desire to see adoption of a mutually acceptable harvest strategy for this population as soon as possible.

16. Doves

Council Recommendations: The Atlantic and Mississippi Flyway Councils recommended use of the “moderate” season framework for States within the Eastern Management Unit population of mourning doves resulting in a 70-day season and 15-bird daily bag limit. The daily bag limit could be composed of mourning doves and white-winged doves, singly or in combination.

The Mississippi and Central Flyway Councils recommend the use of the standard (or “moderate”) season package of a 15-bird daily bag limit and a 70-day season for the 2013-14 mourning dove season in the States within the Central Management Unit. The Central Flyway Council previously recommended that the Special White-winged Dove Area be expanded to Interstate Highway 37 in the 2013-14 season.

The Pacific Flyway Council recommended use of the “moderate” season framework for States in the Western Management Unit (WMU) population of doves, which represents no change from last year's frameworks.

The Atlantic, Mississippi, Central, and Pacific Flyway Councils also recommended that the present interim mourning dove harvest strategy be replaced by a new national mourning dove harvest strategy for implementation beginning with the 2014-15 season. The new strategy uses a discrete logistic growth model based on information derived from the banding program, the Harvest Information Program, and the mourning dove parts collection survey to predict mourning dove population size in a Bayesian statistical framework. The method is similar to other migratory bird strategies already in place and performs better than several other modeling strategies that were evaluated by the National Mourning Dove Task Force. The strategy uses mourning dove population thresholds to determine a regulation package for mourning doves for each year. The Central and Mississippi Flyway Councils did, however, recommend several changes to the strategy, including a reduced closure threshold, using a running 3-year average of abundance in assessing regulatory change, and holding regulations constant for 3 years.

Service Response: In 2008, we accepted and endorsed the interim harvest strategies for the Central, Eastern, and Western Management Units (73 FR 50678, August 27, 2008). As we stated then, the interim mourning dove harvest strategies are a step towards implementing the Mourning Dove National Strategic Harvest Plan (Plan) that was approved by all four Flyway Councils in 2003. The Plan represents a new, more informed means of decision-making for dove harvest management besides relying solely on traditional roadside counts of mourning doves as indicators of population trend. However, recognizing that a more comprehensive, national approach would take time to develop, we requested the development of interim harvest strategies, by management unit, until the elements of the Plan can be fully implemented. In 2009, the interim harvest strategies were successfully employed and implemented in all three Management Units (74 FR 36870, July 24, 2009).

We concur with the Atlantic and Pacific Flyway Councils' recommendations that the National mourning dove harvest strategy, as developed by the Mourning Dove Task Force, be adopted this year for implementation in 2014-15 hunting season. This strategy would replace the Interim Harvest Strategies that have been in place since 2009. While we appreciate the Central and Mississippi Flyway Councils' recommendations supporting implementation of the National mourning dove harvest, we do not support the changes proposed by the Central and Mississippi Flyway Councils specific to the Central Management Unit. More specifically, we do not support the reduced closure threshold, using a running 3-year average of abundance in assessing regulatory change, and holding regulations constant for at least 3 years. We support continued development and further evaluation of the modifications proposed by the Mississippi and Central Flyways, including appropriate closure levels for each management unit based on objective biological criteria. The Mourning Dove Task Force is a useful venue for developing these issues for future consideration and potential modification to the National Strategy.

This year, based on the interim harvest strategies and current population status, we agree with the recommended selection of the “moderate” season frameworks for doves in the Eastern, Central, and Western Management Units.

Regarding the Central Flyway Council's recommendation to expand the Special White-winged Dove Area in Texas, we expressed our support for this recommendation last year and addressed it in the August 30, 2012, Federal Register (77 FR 53118). The then-approved changes take effect this season.

22. Other

Council Recommendations: The Atlantic Flyway Council recommended increasing the possession limits for sora and Virginia rails from 1 to 3 times the aggregate daily bag limit, consistent with the Council's proposed bag limits for all other migratory game birds during normal established hunting seasons.

The Atlantic, Mississippi, Central, and Pacific Flyway Councils recommended increasing the possession limit from 2 to 3 times the daily bag limit for doves.

The Pacific Flyway Council recommended increasing the possession limit from 2 to 3 times the daily bag limit for band-tailed pigeons; special September Canada goose seasons; snipe; falconry; and Alaska seasons for brant, sandhill cranes, and geese (except dusky Canada geese).

The Mississippi Flyway Council recommended that the Service increase the possession limit from 2 times to 3 times the daily bag limit for all migratory game bird species and seasons except for Canada geese, where they recommended that there be no possession limit, or other overabundant species for which no current possession limits are currently assigned (e.g., light geese), where there would continue to be no possession limits. The Council also recommended increasing the possession limits for sora and Virginia rails from 1 to 3 times the aggregate daily bag limit, consistent with other possession limit recommendations, and no change for those species that currently have permit hunts (e.g., cranes and swans). The Council recommends these changes be implemented beginning in the 2013-14 season. New and/or experimental seasons could have different possession limits if justified. The Council further recommended that possession limits not apply at one's personal permanent residence and specifically recommended language to modify 50 CFR 20.39 to do so.

Lastly, the Central Flyway Council recommended that the Service develop a mechanism that allows not for profit community food distribution centers to exceed possession limits for Canada geese during the regular hunting season.

Service Response: The issue of possession limits was first raised by the Flyway Councils in the summer of 2010. At that time, we stated that we were generally supportive of the Flyways' interest in increasing the possession limits for migratory game birds and appreciated the discussions to frame this important issue (75 FR 58250, September 23, 2010). We also stated that we believed there were many unanswered questions regarding how this interest could be fully articulated in a proposal that satisfies the harvest management community, while fostering the support of the law enforcement community and informing the general hunting public. Thus, we proposed the creation of a cross-agency Working Group, chaired by the Service, and comprised of staff from the Service's Migratory Bird Program, State Wildlife Agency representatives, and Federal and State law enforcement staff, to develop a recommendation that fully articulates a potential change in possession limits. This effort would include a discussion of the current status and use of possession limits, which populations and/or species/species groups should not be included in any proposed modification of possession limits, potential law enforcement issues, and a reasonable timeline for the implementation of any such proposed changes.

After discussions last year at the January SRC meeting, and March and July Flyway Council meetings, the Atlantic, Central, and Pacific Flyway Councils recommended that the Service increase the possession limit from 2 times to 3 times the daily bag limit for all migratory game bird species and seasons except for those species that currently have possession limits of less than 2 times the daily bag limit (e.g., some rail species), for permit hunts (e.g., cranes and swans), and for overabundant species for which no current possession limits are assigned (e.g., light geese), beginning in the 2013-14 season (77 FR 58444; September 20, 2012). These recommendations from the Councils were one such outgrowth of the efforts started in 2010. With the Mississippi Flyway Council's recommendation and the additional input and recommendations from all four Flyway Councils from their March 2013 Council meetings, we believe the Flyway Councils' consensus approach of moving from 2 times to 3 times the daily bag limit is appropriate for implementation beginning with the 2013-14 season. Thus, we propose to increase the possession limit for all species for which we currently have possession limits of twice the daily bag limit to three times the daily bag limit. We also propose to include sora and Virginia rails in this possession limit increase. Possession limits for other species and hunts for which the possession limit is equal to the daily bag limit would remain unchanged, as would permit hunts for species such as swans and some crane populations.

Additionally, as we discussed in the April 9 and June 14 proposed rules, when our initial review of possession limits was instituted in 2010, we also realized that a review of possession limits could not be adequately conducted without expanding the initial review to include other possession-related regulations. In particular, it was our belief that any potential increase in the possession limits should be done in concert with a review and update of the wanton waste regulations in 50 CFR 20.25. We believed it prudent to review some of the long-standing sources of confusion (for both hunters and law enforcement) regarding wanton waste. A review of the current Federal wanton waste regulations, along with various State wanton waste regulations, has been recently completed, and we anticipate publishing a proposed rule this summer to revise 50 CFR 20.25.

Lastly, we recognize that there are other important issues surrounding possession that need to be reviewed, such as termination of possession (as recommended by the Mississippi Flyway Council). However, that issue is a much larger and more complex review than the wanton waste regulations and the possession limit regulations. We anticipate starting a review of termination of possession regulations upon completion of changes to the wanton waste regulations.

Regarding the Central Flyway Council's recommendation to allow food banks to exceed possession limits for Canada geese, we note that this issue is outside the scope of this proposed rule. Such a proposal would require a change to 50 CFR 20.33 and would require a separate rulemaking process.

Public Comments

The Department of the Interior's policy is, whenever possible, to afford the public an opportunity to participate in the rulemaking process. Accordingly, we invite interested persons to submit written comments, suggestions, or recommendations regarding the proposed regulations. Before promulgating final migratory game bird hunting regulations, we will consider all comments we receive. These comments, and any additional information we receive, may lead to final regulations that differ from these proposals.

You may submit your comments and materials concerning this proposed rule by one of the methods listed in the ADDRESSES section. We will not accept comments sent by email or fax. We will not consider hand-delivered comments that we do not receive, or mailed comments that are not postmarked, by the date specified in the DATES section.

We will post all comments in their entirety—including your personal identifying information—on http://www.regulations.gov. Before including your address, phone number, email address, or other personal identifying information in your comment, you should be aware that your entire comment—including your personal identifying information—may be made publicly available at any time. While you can ask us in your comment to withhold your personal identifying information from public review, we cannot guarantee that we will be able to do so.

Comments and materials we receive, as well as supporting documentation we used in preparing this proposed rule, will be available for public inspection on http://www.regulations.gov, or by appointment, during normal business hours, at the U.S. Fish and Wildlife Service, Division of Migratory Bird Management, Room 4107, 4501 North Fairfax Drive, Arlington, VA 22203.

For each series of proposed rulemakings, we will establish specific comment periods. We will consider, but possibly may not respond in detail to, each comment. As in the past, we will summarize all comments we receive during the comment period and respond to them after the closing date in the preambles of any final rules.

National Environmental Policy Act (NEPA)

The programmatic document, “Final Supplemental Environmental Impact Statement: Issuance of Annual Regulations Permitting the Sport Hunting of Migratory Birds (FSES 88-14),” filed with the Environmental Protection Agency (EPA) on June 9, 1988, addresses NEPA compliance by the Service for issuance of the annual framework regulations for hunting of migratory game bird species. We published a notice of availability in the Federal Register on June 16, 1988 (53 FR 22582), and our Record of Decision on August 18, 1988 (53 FR 31341). We also address NEPA compliance for waterfowl hunting frameworks through the annual preparation of separate environmental assessments, the most recent being “Duck Hunting Regulations for 2012-13,” with its corresponding August 23, 2012, finding of no significant impact. We will prepare another separate EA for 2013-14 waterfowl hunting frameworks this summer. In addition, an August 1985 environmental assessment entitled “Guidelines for Migratory Bird Hunting Regulations on Federal Indian Reservations and Ceded Lands” is available from the address indicated under the caption FOR FURTHER INFORMATION CONTACT.

In a notice published in the September 8, 2005, Federal Register (70 FR 53376), the Service announced its intent to develop a new supplemental environmental impact statement for the migratory bird hunting program. We held public scoping meetings in the spring of 2006, as announced in a March 9, 2006, Federal Register notice (71 FR 12216). We published the 2010 draft supplemental environmental impact statement in the Federal Register on July 9, 2010 (73 FR 39577). The public comment period closed on March 26, 2011. On May 31, 2013, we published a notice of availability in the Federal Register (78 FR 32686) announcing a Second Final Supplemental Environmental Impact Statement for the Issuance of Annual Regulations Permitting the Hunting of Migratory Birds. The programmatic document was filed with the EPA on May 24, 2013, pursuant to the NEPA. The public review period ended July 1, 2013.

Below is the Service's Record of Decision (RoD) for the migratory bird hunting program, prepared pursuant to National Environmental Policy Act (NEPA) regulations at 40 CFR 1505.2. We have provided it here in its entirety. This RoD was developed by the Service in compliance with the agency decision-making requirements of NEPA. The purpose of this RoD is to document the Service's decision for the selection of an alternative for the issuance of annual regulations permitting the hunting of migratory birds. Alternatives have been fully described and evaluated in the May 2013 Second Final Supplemental Environmental Impact Statement for the Issuance of Annual Regulations Permitting the Hunting of Migratory Birds.

This RoD is intended to: (a) State the Service's decision, present the rationale for its selection, and describe its implementation; (b) identify the alternatives considered in reaching the decision; and (c) state whether all means to avoid or minimize environmental harm from implementation of the selected alternative have been adopted (40 CFR 1505.2).

Record of Decision—Second Final Supplemental Environmental Impact Statement for the Issuance of Annual Regulations Permitting the Hunting of Migratory Birds

Through this Record of Decision (RoD), the U.S. Fish and Wildlife Service (Service) selects alternatives for the seven regulatory components considered for establishing annual regulations for the hunting of migratory birds in the United States. This RoD includes brief summaries of the alternatives considered, the public involvement process, and the rationale for selecting an alternative for each of the seven regulatory components considered, as described in the Final Supplemental Environmental Impact Statement (FSEIS), for issuance of annual migratory bird hunting regulations. In all cases, the “preferred” alternative is also the environmentally preferred one.

Description of the Seven Regulatory Components and Alternatives Considered Under Each

1. Schedule and Timing of the General Regulatory Process

Promulgation of annual hunting regulations relies on a well-defined process of monitoring, data collection, and scientific assessment. At key points during that process, Flyway Technical Committees, Flyway Councils, and the public review and provide valuable input on technical assessments or other documents related to proposed regulatory frameworks. The Service then finalizes the frameworks and forwards them to the Assistant Secretary of the Interior for Fish and Wildlife and Parks for final approval. After approval, each State selects its seasons, usually following its own schedule of public hearings and other deliberations. After State selections are completed, the Service adopts them as Federal regulations by publication in the Federal Register.

Alternative 1: (no change alternative). Promulgate annual regulations using separate early and late season processes based on previous or current year biological information and established harvest strategies.

Alternative 2: (preferred alternative). Promulgate annual regulations using a single process for early and late seasons based on predictions derived from long-term biological information and established harvest strategies.

Alternative 3: Promulgate biennial (or longer) regulations using separate early and late season processes.

Alternative 4: Promulgate biennial (or longer) regulations using a single process for early and late seasons.

Decision: The Service has selected Alternative 2 as described in the FSEIS for implementation. Alternative 2 is the most effective alternative for addressing key issues identified during the planning process and will best achieve the purposes and goals of the Service and States. Implementation of the preferred alternative is targeted for the 2015-16 regulations cycle.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The Service concludes that the impact of Alternative 2 on hunted populations of migratory birds compared to the no change alternative is likely to be minimal. Alternative 2 combines the current early and late season regulatory actions into a single process. Regulatory proposals will be developed using biological data from the preceding year(s), model predictions, or most recently accumulated data that are available at the time the proposals are being formulated. Individual harvest strategies will be modified using either data from the previous year(s) or model predictions because the current year's data would not be available for many of the strategies. Considerable technical work will be necessary over a period of years to adjust the underlying biological models to the new regulatory time scale. During this transition period, harvest strategies and prescriptions will be modified to fit into the new regulatory schedule. These adjustments could be accomplished immediately upon adoption of the new process. Many existing regulatory prescriptions used for Canada geese and sandhill cranes currently work on this basis. The process will be somewhat less precise in some instances because population projections would be used instead of current-year status information. The use of population projections rather than current-year population estimates would add variability to the population estimate from which the regulations are based. However, the uncertainty associated with these status predictions will be accounted for and incorporated into the process. This uncertainty will not result in a disproportionately higher harvest rate for any stock, either annually or on a cumulative basis, because these regulations likely would become slightly more conservative due to the increased uncertainty of the population status. Additionally, under this alternative, the SRC will meet in March or April (exact dates would be determined in consultation with the four Flyway Councils). Proposed frameworks will be available for public review by early June. Final frameworks will be published by mid-August. The schedule proposed under Alternative 2 will allow 30-60 days for public input and comments (currently the comment period is as short as 10 days). The four Flyway Councils could meet only once instead of twice, and the SRC will meet twice a year, once in January and once in March-April, instead of the three times they currently convene. The reduced number of meetings could lower administrative costs by 40 percent per year and substantially lower the Service's carbon footprint due to a decrease in travel and a reduction in the costs associated with the additional meetings.

2. Frequency of Review and Adoption of Duck Regulatory Packages

Duck regulatory packages are the set of framework regulations that apply to the general duck hunting seasons. Packages include opening and closing dates, season lengths, daily bag limits, and shooting hours. Current regulatory packages contain a set of frameworks for each of the four flyways and a set of four regulatory alternatives: restrictive (relatively short seasons and low daily bag limits), moderate (intermediate season lengths and daily bag limits), liberal (longer seasons and higher daily bag limits), and closed. The differences in season lengths and daily bag limits among flyways reflect the historic differences in waterfowl abundance and hunter numbers in these regions. Each regulatory package has an associated target harvest rate, which is based on mallards since mallards are the most well-studied and most heavily harvested (nationally) of all duck species. Each year the adaptive harvest management (AHM) models are run, with the most up-to-date harvest survey data included, and one of the regulatory alternatives (i.e., closed, restrictive, moderate, or liberal) is selected based on the AHM process. These regulatory packages apply to all duck species except those for which specific individual harvest strategies exist or, in some cases, for species in which separate daily bag limits have been established. Daily bag limit restrictions within the general duck seasons are used to limit the harvest of certain less abundant species (e.g., American black duck, wood duck, mottled duck).

Importantly, when employing the AHM approach, the regulatory packages should remain relatively constant over time, because the optimization process assumes that the expected harvest rates resulting from the various packages remains constant. However, the uncertainty in harvest rates from what is projected and what is realized in any given year is a component that is accounted for in the process; thus, there is room for modification. Recognizing the desire of many constituents to make adjustments to the basic packages, a regular process to review and incorporate possible modifications is necessary and appropriate. The intent, regardless of the alternative selected below, is to have the first open review and possible modification of these packages begin in the year following the finalization of the FSEIS.

Alternative 1: (no change alternative). Regulatory packages adopted annually.

Duck regulatory packages are currently reviewed and adopted on an annual basis (see above). This would continue under this alternative.

Alternative 2: (preferred alternative). Establish regulatory packages for 5-year periods.

A description of duck regulatory packages is provided above. Under this alternative, the set of regulatory packages would be adopted for a 5-year period instead of annually, and changes would be considered at the time of renewal. The first review period would coincide with the initial implementation of the proposed action.

Decision: The Service has selected Alternative 2 as described in the FSEIS for implementation. Alternative 2 is the most effective alternative for addressing key issues identified during the planning process and will best achieve the purposes and goals of the Service and States. Implementation of the preferred alternative is targeted for the 2015-16 regulations cycle or as soon as is technically feasible.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The Service concludes that Alternative 2 allowing review and adoption of regulatory packages every 5 years instead of annually is the best course of action balancing the need for consistent regulatory actions with the need for occasional adjustments. Adopting such a process will result in limited impacts on population status. Limiting changes to a 5-year interval is expected to result in an improvement over the current situation. The improvement should result because of the reduced variability in harvest rates that are expected when compared to allowing annual changes in the basic duck regulatory packages. Adopting packages annually as is presently done could increase variability, if the packages are actually changed annually. In fact, and in recognition of this problem, the Service has kept packages stable, although it reviews and adopts them each year. Alternative 2 will minimize the frequency of changes, thereby improving the learning potential under the AHM process, while still affording the option to adjust packages at regular intervals in recognition of changing bird status, environmental conditions, and socioeconomic changes.

3. Stock-Specific Harvest Strategies

Harvest strategies have been developed for stocks deemed not biologically capable of sustaining the same harvest levels that jointly managed stocks are capable of sustaining, or whose migration and distribution do not conform to patterns followed by the most commonly harvested species. There also is a desire to have a known set of conditions under which regulations would be changed for species covered by these strategies. The formal strategies provide this information by describing abundance levels and other demographic factors that would result in changes in harvest opportunity. Stock-specific harvest strategies formally adopted by the Service include those for American black ducks, canvasbacks, northern pintails, and scaup. In addition, an interim harvest strategy was recently developed and proposed for approval for mourning doves starting with the 2014-15 hunting season. A draft harvest strategy for wood ducks may be developed and considered for adoption in the future. The Service has adopted stock-specific strategies for ducks and mourning doves through the Federal Register process. Harvest guidelines for goose, swan and crane populations are addressed in flyway-specific management plans. Although these harvest guidelines are not formally adopted by the Service, the Service gives strong consideration to these plans when formulating annual regulatory proposals.

Alternative 1: (no change, preferred alternative). Continue use of currently employed stock-specific harvest strategies and develop new strategies when necessary.

Alternative 2: Significantly reduce the use of stock-specific harvest strategies.

This action would be accomplished by reducing general seasons to a structure that can be sustained by more stocks than the existing aggregate structures are able to sustain. For example, a simplified set of regulations for general duck seasons would result in a reduction in the number of separate harvest strategies that would be needed for ducks (e.g., duck limits overall would be reduced to those appropriate for scaup or northern pintails, whichever of these required the most conservative regulations).

Alternative 3: Expand the use of stock-specific harvest strategies to include most individual stocks.

This alternative would lead to additional stock-specific regulations that would eventually result in separate hunting seasons for most, if not all, recognized stocks for which harvest is allowed.

Decision: The Service has selected Alternative 1 as described in the FSEIS for implementation. Alternative 1 is the most effective alternative for addressing key issues identified during the planning process and will best achieve the purposes and goals of the Service and States. Implementation of the preferred alternative is targeted for the 2015-16 regulations cycle or as soon as is technically feasible.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The Service concludes that the use of stock-specific harvest strategies protects individual species deemed biologically incapable of sustaining the harvest levels imposed by the current AHM process based on mallard status. Alternative 1 reduces the risk of overharvesting specific stocks without unnecessarily reducing harvest opportunities on more abundant species. Alternative 1 allows hunters, businesses, and governments to plan for hunting expenses and regulations in advance, since it provides a set of conditions under which regulations would be changed, and the extent of change in those regulations. However, adding additional strategies could increase regulatory complexity because there could be new strategies and associated regulations developed, as needed, to address additional stocks of migratory birds. Any new strategies will also increase the cost of the annual regulatory process. Thus, new strategies will only be added when there is a clear need and after consultation with State partners. New strategies will be proposed, and the public will be provided opportunities for comment. The Service will continue the current policy of reviewing, revising and/or eliminating strategies to reflect changes in the status and technical understanding of the strategies that are in use.

4. Special Regulations

Special regulations differ from stock-specific harvest strategies because they entail additional days of harvest opportunity outside the established frameworks for general seasons, but within the 107-day limit mandated by the Migratory Bird Treaty Act (16 U.S.C. 703-712). Special regulations are employed to provide additional harvest opportunity on overabundant stocks, stocks that are lightly harvested and can sustain greater harvest pressure when harvest can be achieved without appreciable impacts to nontarget species, and/or stocks whose migration and distribution provide opportunities outside the time period in which regular seasons are held. An important tenet of special regulations is that harvest pressure can be effectively directed primarily at target stocks that can be temporally and geographically isolated so as to avoid nontarget take. Currently, special regulations include: (1) September teal seasons in the Atlantic, Mississippi, and Central Flyways; (2) September teal and wood duck seasons in Florida, Kentucky, and Tennessee; (3) the special sea duck season along the Atlantic Coast; and (4) special regulations on overabundant resident Canada geese. The Service has required that States implementing special regulations conduct experiments that assess the biological impacts of those seasons on both target and non-target stocks.

Alternative 1: (no change alternative). No change to currently allowed special regulations.

Maintain requirement for experimental evaluation of any proposed new special regulations and periodic assessments of the effects of special regulations to determine whether they are still justified.

Alternative 2: (preferred alternative). Eliminate experimental evaluation requirements for special regulations on overabundant resident Canada geese, except for areas where previous evaluations indicate an unacceptable level of take of migrant Canada geese, and in areas which have not conducted evaluations where one could reasonably expect an unacceptable level of take of migrant Canada geese (e.g., areas in northern States). All special Canada goose seasons require Flyway Council endorsement, and Flyway Councils may request evaluations as part of the approval process if they believe such evaluations to be warranted. Additionally, if conditions are believed to have changed, new evaluations can be conducted for areas in which prior evaluations failed with respect to the take of migrant Canada geese. The Service may periodically re-evaluate existing special regulations for other species/stocks on a case-by-case basis to determine whether they are still justified, and will continue to require experiments for any other types of new special regulations. The Service will undertake a review of the Special harvest regulations in place for sea ducks.

Decision: The Service has selected Alternative 2 as described in the FSEIS for implementation. Alternative 2 is the most effective alternative for addressing key issues identified during the planning process and will best achieve the purposes and goals of the Service and States. Implementation of the preferred alternative is targeted for the 2015-16 regulations cycle or as soon following as is technically feasible.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The Service concludes that several target populations will benefit from the biological review that would determine if special harvest opportunities were still warranted. In particular, special seasons for sea ducks and teal will be considered. Elimination of experimental season evaluations for overabundant resident Canada geese is not expected to alter their population status, but is expected to expedite actions designed to increase harvest of these birds. Sufficient experimentation already has been conducted, and the results indicate that these seasons will not endanger the resident geese. There are some risks to non-target migrant Canada goose populations; however, recent studies provide sufficient data regarding select areas where such seasons could pose a problem for non-target goose populations and those areas will be addressed on a case-by-case basis to ensure non-resident stocks are not negatively impacted.

Alternative 2 could lead to increased administrative costs associated with the re-evaluation of the existing special regulations. The Service has historically reviewed special regulations when changes in status or environmental conditions suggest there is a reason to do so. This alternative continues that practice. Although there could be an initial increase in cost associated with such re-evaluations, there could also be financial savings associated with elimination of the experimental evaluation requirement for most resident Canada goose special regulations. Depending on findings, the results of those evaluations could lead to expansion of one or more of the current special duck seasons or establishment of additional special seasons, either of which would result in more hunting opportunity and the associated economic benefits. On the other hand, evaluations could lead to reduction or elimination of one or more current special seasons, resulting in reduced hunting opportunity and some negative impacts on local economies. Expediting the approval of additional special regulations for resident Canada geese would increase harvest and result in fewer of those birds, which in turn would reduce crop depredation and other conflicts caused by their overabundance.

5. Management Scale for the Harvest of Migratory Birds

Management scale is defined as the geographic area in which stocks are monitored and harvest is managed. Determining the appropriate scale of harvest management is important for two primary reasons: (1) Scale determines the degree to which harvest regulations can differ geographically, and (2) management at smaller geographic scales commits management agencies to increased monitoring efforts on greater numbers of stocks of migratory birds. The finer the scale of management employed in harvest management, the higher the cost of monitoring to management agencies. The desire for smaller management scales is driven by the potential for increased harvest opportunity associated with more refined geographic management.

Alternative 1: (no change, preferred alternative). Maintain the current scale of management for all migratory bird species.

Under this alternative, ducks would be managed by flyway on the basis of three mallard stocks: Eastern, western, and mid-continent. For duck species that are covered by harvest strategies (e.g., pintails, scaup, and canvasbacks), the management scale would continue to be continental. New strategies would include geographic definitions of the applicable scale as part of their descriptions. American woodcock would continue to be managed as two units and mourning doves as three. Sandhill cranes, geese, tundra swans, and band-tailed pigeons would be managed as the currently defined individual populations. American black duck and wood duck seasons would remain as currently implemented. All geographic scales would be subject to periodic review and revision when new information becomes available, or if population distributions shift markedly in the future. This approach provides considerable allowances for differences in hunting opportunity based on geographic differences in population status and distribution, yet limits the number of different stocks that require individual monitoring to a manageable level.

Alternative 2: Expand the existing management scale by reverting to a single continental management scale for population monitoring of ducks, mourning doves, and American woodcock. The existing harvest-management units (e.g., flyways, management units) would be maintained to account for regional differences in hunter numbers and harvest pressure.

This alternative would establish a continental scale for the monitoring of migratory game birds and harvest management decisions. Regional differences in population status and trends would not be taken into account when making regulatory decisions. The only geographic differences in harvest opportunity would be based on the traditional differences that have been established among flyways and among/between ducks, mourning dove, tundra swan, and American woodcock management units.

Alternative 3: Work to further geographically refine the scale of duck harvest management, and maintain existing management scales for other stocks.

Monitoring programs would be established wherever sufficient biological evidence suggests further geographic refinement is possible for any stocks. The monitoring programs would allow for differential harvest regulations within the defined range of each stock. Conceptually, this would greatly increase the number of stocks for which separate regulations would be established independently. This could include subdividing the traditional management units of flyways (in the case of ducks), or the management units, in the case of mourning doves or American woodcock.

Decision: The Service has selected Alternative 1 as described in the FSEIS for implementation. Alternative 1 is the most effective alternative for addressing key issues identified during the planning process and will best achieve the purposes and goals of the Service and States. Implementation of the preferred alternative is targeted for the 2015-16 regulations cycle or as soon following as is technically feasible.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The Service concludes that Alternative 1 ensures sustainable continental populations of mallards and other duck species that are the subjects of species-specific harvest strategies, because those harvest strategies are supported by adequate population size, harvest monitoring programs, and other relevant population statistics. Likewise, geese, mourning doves, woodcock, sandhill cranes, tundra swans, and band-tailed pigeons are monitored at their current management scales to ensure sustainability. However, if distinct subpopulations exist within any of the currently defined populations/species, and have demographics that differ greatly from the management-scale-wide average, those subpopulations could undergo undetected growth or decline under Alternative 1. Coots, gallinules, moorhens, snipe, and rails will be managed at the continental scale under this alternative. Alternative 1 maintains the traditional approach of allowing for recognition of geographic variation in harvest opportunity while maintaining a relatively limited number of geographic units that must be monitored and managed separately. Costs of monitoring and managing at the current scale have been considered acceptable to the public and the cooperating management agencies. To date, the level of hunting opportunity that this alternative affords has been adequate to satisfy migratory bird hunters in most years. This approach represents a compromise between recognition of existing natural variation in abundance and distribution with the costs associated with managing at more refined geographic scales, such as is considered in Alternative 3 for this component.

6. Zones and Split Seasons

A zone is a geographic area or portion of a State, with a contiguous boundary, for which an independent season may be selected. A split is a situation where a season is broken into two or more segments with a closed period between segments. The combination of zones and split seasons allows a State to maximize harvest opportunity within the Federal frameworks without exceeding the number of days allowed for a given season. Guidelines for the use of zones and splits have been formalized for ducks and doves. For these species, States select zone/split configurations for 5-year periods. After each 5 year period, States have the opportunity to change their configurations within the provisions of the guidelines. The use of zones and split seasons for other migratory game birds is handled on a case-by-case basis. Refer to Chapter 2 of the FSEIS for a more in-depth description of zones and splits.

Alternative 1: (no change, preferred alternative). Continue the current use of zones and split seasons and the 5-year schedule for consideration of changes for ducks and doves within established zones/splits guidelines. Goose and crane zones may be adjusted annually.

Alternative 2: Allow annual adjustments to zone/split-season configurations for all migratory game birds.

Decision: The Service has selected Alternative 1 as described in the FSEIS for implementation. Alternative 1 is the most effective alternative for addressing key issues identified during the planning process and will best achieve the purposes and goals of the Service and States. Implementation of the preferred alternative is targeted for the 2015-16 regulations cycle or as soon following as is technically feasible.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The Service recognizes that the use of zones and split seasons results in some additional harvest, but the incremental impacts of each State's existing zone and split season configuration on the overall harvest of ducks and doves are not anticipated to be significant at the population level. However, most duck and dove populations are stable or increasing, indicating that within the context of other framework regulations, current zone and split season configurations are not adversely impacting those populations. When reductions in harvest are necessary, they are accomplished through framework regulations, taking into account the effects of existing zone and split season configurations. Thus, Alternative 1 is not expected to have any measurable impacts on target duck and dove populations compared to current practice. The use of zones and split seasons enables States to better maximize hunting opportunity, thereby encouraging participation in migratory bird hunting and resulting in increased benefits to local economies. Alternative 1 would maintain those benefits at current levels. Limiting the frequency of potential changes to the proposed 5-year interval for zone/split-season configurations continues to be somewhat less responsive to public desires for adjustments, but there is no evidence that this has impacted hunter participation negatively. States incur some costs associated with contacting their hunting publics to assess their desires with regard to zone locations and dates for split seasons, primarily through public meetings and surveys.

7. Subsistence-Harvest Regulatory Process

Regulations governing the subsistence harvest of migratory birds provide a framework that enables the continuation of customary and traditional subsistence uses of migratory birds in Alaska. These regulations are subject to annual review and are developed under a co-management process involving the Service, the Alaska Department of Fish and Game, and Alaska Native representatives. This annual review process establishes regulations that prescribe frameworks for dates when harvesting of birds may occur, species that can be taken, and methods and means that are excluded from use.

Alternative 1: (no change, preferred alternative). Allow a spring-summer subsistence hunting season with regulations necessary to ensure the long-term conservation of the migratory bird resource.

Under this alternative, the Service would allow a spring-summer harvest of migratory birds. The harvest would, to the extent possible, be consistent with the customary and traditional subsistence harvest of migratory birds by Alaskan indigenous inhabitants, while providing for the long-term sustained use of the migratory bird resource. Egg gathering would be consistent with the customary and traditional subsistence harvest of eggs by Alaskan indigenous inhabitants. Only bird populations that are determined to be capable of supporting this sustained use would be open to harvest.

In general, the Service will consider the following actions when establishing subsistence hunting regulations consistent with the long-term conservation of species open to subsistence harvest. The species open to harvest will be determined annually based on conservation status and a determination that harvest is consistent with long-term conservation. The secondary consideration of the Service in establishing subsistence harvest regulations will be to preserve the customary and traditional practices of the rural residents of Alaska to the maximum extent possible after ensuring the long-term conservation of species harvested. The third consideration of the Service in establishing subsistence harvest regulations will be to determine that the proposed harvest is consistent with the Migratory Bird Treaty Act (MBTA), as modified by amendments to the Protocols of Migratory Bird Treaties with Canada and Mexico. A summary of the potential management tools that could be employed to regulate subsistence harvest under these actions is as follows:

(A) Closures to protect nesting birds. For all species, the Service will require at least a 30 day closure to protect nesting birds. In-season closures of a minimum of 30 days will be set for each region to protect nesting birds. The closed period will apply every year; however, the dates of the closures may be altered to adapt to changes in the nesting cycle of birds. Regions may have different closures for different taxonomic groups. Closures may be set in advance in regulation or may be set in-season, based upon data collected by field biologists and subsistence users. In the case of closures set in-season, the dates will be announced by the U.S. Fish and Wildlife Service Regional Director (or designee) and then broadcast widely.

(B) Species closures to all harvest. Seasons for certain species may be closed when there is a conservation concern. Harvest will be resumed when the species recovers to a status sufficient to ensure sustainability.

(C) Species closures to egg-gathering. Species may be closed to egg-gathering when there is a conservation concern. Egg harvest may be resumed when the species recovers to a status sufficient to ensure sustainability.

(D) Special area closure. A defined area may be closed to all harvest of a species when there is a conservation concern. The closure may be lifted when the species has recovered. A defined area also may be closed to all harvest of a particular species when the species in question has not been traditionally harvested or when the Regional Council, which represents the land in question, recommends the closure.

(E) Early season closure. A season may be closed early for a defined area to protect birds staging during migration when there is a conservation concern or the birds are vulnerable to excessive harvest.

(F) Establishment of a community bag limit. A community or regional bag limit may be implemented only in the case in which the affected species would otherwise be closed to all harvest.

(G) Special opening for a specified area. Special openings (i.e., egg gathering) may be created to allow for the customary and traditional use of a migratory bird species in areas that are not otherwise eligible to participate in subsistence harvest seasons. Such areas will be recommended by Regional Councils, and such recommendations will be based on evidence of customary and traditional subsistence harvest practices.

(H) Individual bag limits. Personal harvester bag limits may be imposed in the case of a declining population of a species that would otherwise be closed, or an increasing population that is closed to harvest and would not otherwise be open. Personal bag limits will be employed only after consultation with respective regional management bodies affected through the Alaska Migratory Bird Co-management Council (AMBCC) process described in Appendix 6 of the FEIS.

Alternative 2: Open a spring-summer subsistence hunting season that incorporates fall-winter hunting season regulations (e.g., bag limits, shooting hours).

Under this alternative, the Service would replace the current spring-summer subsistence hunting season regulations with regulations consistent with the fall harvest. Methods and means required for fall-winter hunting would be adopted, daily bag limits for individual hunters would be imposed, and fall regulations concerning exchange and transport of birds and bird parts would apply. Egg gathering would, to the extent possible, be consistent with the customary and traditional subsistence harvest of eggs by Alaskan indigenous inhabitants.

The regulations at title 50 of the Code of Federal Regulations (CFR), part 20, subpart C (Taking), apply in this alternative with the exception of closed seasons (§ 20.22). 50 CFR 20, subpart D (Possession), also applies with the exception of § 20.32. The final frameworks approved by the Secretary of the Interior for the Pacific Flyway season would apply with the following exceptions: (1) Shooting hours would not be specified; (2) the season would be from April 2 through August 31; and (3) the closed periods to protect nesting birds described in Alternative 1 would apply.

Decision: The Service has selected Alternative 1 as described in the FSEIS for implementation. Alternative 1 is the most effective alternative for addressing key issues identified during the planning process and will best achieve the purposes and goals of the Service and States. Implementation of the preferred alternative is targeted for the 2015-16 regulations cycle or as soon following as is technically feasible.

Factors Considered in Making the Decision: In reaching this decision, the Service reviewed and considered the following: Impacts identified in Chapter 6 of the draft and FSEIS; relevant issues, concerns, and opportunities presented by agencies, organizations, and individuals throughout the planning process, including comments on the draft and FSEIS; and other relevant factors, including statutory and regulatory guidance.

The preamble of the 1995 Protocol to the Migratory Bird Treaty Amendment states, “. . . it is not the intent of this Protocol to cause significant increases in the take of species of migratory birds relative to their continental population sizes.” The use of household surveys of subsistence harvest areas will enable tracking of participation in subsistence harvest activities and the extent of the take. Should the harvest significantly increase relative to continental populations, then regulatory actions would be taken to keep harvest in compliance with the 1995 Protocol.

Under Alternative 1, law enforcement efforts will be carried out commensurate with threats to migratory bird populations to ensure that compliance is achieved to maintain harvest at prescribed levels. The subsistence economies of rural areas will continue to benefit from an important food resource which is traditionally shared among members of a community. In addition, this alternative promotes the establishment of regulations recommended by the AMBCC which, along with the regional management bodies, is the embodiment of the co-management process. Greater compliance with regulations developed through the co-management process is more likely than with Alternative 2. By being part of the regulatory process, subsistence hunters, and those who share in the harvest, will have a sense of ownership, leading to greater compliance. An example of how this has worked in the past is the population recovery of cackling Canada geese that nest on the Yukon-Kuskokwim Delta, in Alaska. The institution of the Hooper Bay agreement in advance of the Migratory Bird Treaty Amendment led to reduced subsistence and reduced fall-winter harvests of cackling Canada geese and helped the population recover from a low of about 25,000 birds to the current population size of approximately 200,000. Participation in the regulatory process also is anticipated to result in greater participation in the harvest survey. Broader coverage of the survey would lead to more accurate harvest data because it would include the harvest of more of the subsistence hunter population.

Avoiding and Minimizing Environmental Harm

The above seven components of the annual regulatory process are designed to continue and improve the long-standing Federal process for establishing regulations for hunting migratory birds. These components continue the process that has maintained this harvest consistent with the long-term conservation of the species and populations that are harvested. The preferred alternatives selected for these components will reduce the administrative burden and thus reduce the carbon footprint by both Federal and State government agencies by reducing the number of meetings conducted annually to establish these regulations. In addition, changing the timing of the meetings will now allow for a greater opportunity for public input and consideration of the proposed annual regulations. The changed process will also allow for periodic modifications of the underlying regulatory packages at 5-year intervals to better address potential changes in environmental conditions caused by factors other than hunting (i.e., climate change). These changes are possible due to improved technical understanding gained through decades of monitoring and assessment of these biological systems. This process will not alter the continued development and improvement of such understanding of the biological systems, as monitoring and assessment will continue on an annual basis.

Public Involvement

Scoping is the initial stage of the EIS process used to design the extent and influence of an action. On September 8, 2005, the Service published a notice of intent to prepare a SEIS on the hunting of migratory birds under the authority of the MBTA (70 FR 53376). On March 9, 2006, the Service subsequently announced a total of 12 public meetings to be held across the United States to accept public and agency comment on the scope and relevant issues that should be addressed in the SEIS (71 FR 12216). In addition to these public meetings, the Service established a Web site to receive electronic comments and solicited written comments. The Service also announced that all comments received from the initiation of this process on September 8, 2005 until May 30, 2006 would be considered in the development of the SEIS. Subsequent to the conclusion of the scoping process a draft FSEIS was developed based on the input received. The draft FSEIS was released for public comment on June 7, 2010 and comments were accepted until March 31, 2011. All comments on the draft FSEIS were carefully considered in the preparation of the FSEIS and the selection of the preferred alternatives for the seven regulatory components considered.

Findings Required by Other Laws and Executive Orders

Please see the Other Required Determinations section of this document.

For Further Information

Questions about the FSEIS may be directed to Robert Trost, Pacific Flyway Representative, Division of Migratory Bird Management, Portland, OR 97232; phone number (503) 231-6162, fax number (503) 231-6228, and email: robert_trost@fws.gov.

Supporting References

U.S. Fish and Wildlife Service. 2010. Issuance of Annual Regulations Permitting the hunting of Migratory Birds: Draft Supplemental Environmental Impact Statement. U.S. Fish and Wildlife Service, Washington, DC. 296 pages.

U.S. Fish and Wildlife Service. 2013. Issuance of Annual Regulations Permitting the hunting of Migratory Birds: Final Supplemental Environmental Impact Statement. U.S. Fish and Wildlife Service, Washington, DC. 418 pages.

Note: This RoD and supporting references are available for public review from the Pacific Flyway Representative, Division of Migratory Bird Management at (503) 231-6162, or the Chief, Division of Migratory Bird Management, at (703) 358-1714. Alternately, you may write to: Pacific Flyway Representative, Division of Migratory Bird Management, U.S. Fish and Wildlife Service, 911 NE 11th Avenue, Portland, OR 97232.

Paperwork Reduction Act

This proposed rule does not contain any new information collection requirement that require approval under the Paperwork Reduction Act of 1995 (44 U.S.C. 3501 et seq.). We may not conduct or sponsor and you are not required to respond to a collection of information unless it displays a currently valid OMB control number. OMB has reviewed and approved the information collection requirements associated with migratory bird surveys and assigned the following OMB control numbers:

• 1018-0010—Mourning Dove Call Count Survey (expires 4/30/2015).

• 1018-001—North American Woodcock Singing Ground Survey (expires 4/30/2015).

• 1018-0023—Migratory Bird Surveys (expires 4/30/2015). Includes Migratory Bird Harvest Information Program, Migratory Bird Hunter Surveys, Sandhill Crane Survey, and Parts Collection Survey.

Other Required Determinations

Based on our most current data, we are affirming our required determinations made in earlier proposed rules; for descriptions of our actions to ensure compliance with the following statutes and Executive Orders, see our April 9, and June 14, 2013, proposed rules (78 FR 21200 and 78 FR 35844):

• Regulatory Planning and Review (Executive Orders 12866 and 13563);

• Endangered Species Act;

• Regulatory Flexibility Act;

• Small Business Regulatory Enforcement Fairness Act;

• Unfunded Mandates Reform Act;

• Executive Orders 12630, 12988, 13175, 13132, and 13211.

List of Subjects in 50 CFR Part 20

Exports, Hunting, Imports, Reporting and recordkeeping requirements, Transportation, Wildlife.

The rules that eventually will be promulgated for the 2013-14 hunting season are authorized under 16 U.S.C. 703-712 and 16 U.S.C. 742 a-j.

Dated: July 18, 2013.
Rachel Jacobson,
Principal Deputy Assistant Secretary for Fish and Wildlife and Parks.

Proposed Regulations Frameworks for 2013-14 Early Hunting Seasons on Certain Migratory Game Birds

Pursuant to the Migratory Bird Treaty Act and delegated authorities, the Department of the Interior approved the following proposed frameworks, which prescribe season lengths, bag limits, shooting hours, and outside dates within which States may select hunting seasons for certain migratory game birds between September 1, 2013, and March 10, 2014. These frameworks are summarized below.

General

Dates: All outside dates noted below are inclusive.

Shooting and Hawking (taking by falconry) Hours: Unless otherwise specified, from one-half hour before sunrise to sunset daily.

Possession Limits: Unless otherwise specified, possession limits are three times the daily bag limit.

Permits: For some species of migratory birds, the Service authorizes the use of permits to regulate harvest or monitor their take by sport hunters, or both. In many cases (e.g., tundra swans, some sandhill crane populations), the Service determines the amount of harvest that may be taken during hunting seasons during its formal regulations-setting process, and the States then issue permits to hunters at levels predicted to result in the amount of take authorized by the Service. Thus, although issued by States, the permits would not be valid unless the Service approved such take in its regulations.

These Federally authorized, State-issued permits are issued to individuals, and only the individual whose name and address appears on the permit at the time of issuance is authorized to take migratory birds at levels specified in the permit, in accordance with provisions of both Federal and State regulations governing the hunting season. The permit must be carried by the permittee when exercising its provisions and must be presented to any law enforcement officer upon request. The permit is not transferrable or assignable to another individual, and may not be sold, bartered, traded, or otherwise provided to another person. If the permit is altered or defaced in any way, the permit becomes invalid.

Flyways and Management Units

Waterfowl Flyways

Atlantic Flyway—includes Connecticut, Delaware, Florida, Georgia, Maine, Maryland, Massachusetts, New Hampshire, New Jersey, New York, North Carolina, Pennsylvania, Rhode Island, South Carolina, Vermont, Virginia, and West Virginia.

Mississippi Flyway—includes Alabama, Arkansas, Illinois, Indiana, Iowa, Kentucky, Louisiana, Michigan, Minnesota, Mississippi, Missouri, Ohio, Tennessee, and Wisconsin.

Central Flyway—includes Colorado (east of the Continental Divide), Kansas, Montana (Counties of Blaine, Carbon, Fergus, Judith Basin, Stillwater, Sweetgrass, Wheatland, and all counties east thereof), Nebraska, New Mexico (east of the Continental Divide except the Jicarilla Apache Indian Reservation), North Dakota, Oklahoma, South Dakota, Texas, and Wyoming (east of the Continental Divide).

Pacific Flyway—includes Alaska, Arizona, California, Idaho, Nevada, Oregon, Utah, Washington, and those portions of Colorado, Montana, New Mexico, and Wyoming not included in the Central Flyway.

Management Units

Mourning Dove Management Units

Eastern Management Unit—All States east of the Mississippi River, and Louisiana.

Central Management Unit—Arkansas, Colorado, Iowa, Kansas, Minnesota, Missouri, Montana, Nebraska, New Mexico, North Dakota, Oklahoma, South Dakota, Texas, and Wyoming.

Western Management Unit—Arizona, California, Idaho, Nevada, Oregon, Utah, and Washington.

Woodcock Management Regions

Eastern Management Region—Connecticut, Delaware, Florida, Georgia, Maine, Maryland, Massachusetts, New Hampshire, New Jersey, New York, North Carolina, Pennsylvania, Rhode Island, South Carolina, Vermont, Virginia, and West Virginia.

Central Management Region—Alabama, Arkansas, Illinois, Indiana, Iowa, Kansas, Kentucky, Louisiana, Michigan, Minnesota, Mississippi, Missouri, Nebraska, North Dakota, Ohio, Oklahoma, South Dakota, Tennessee, Texas, and Wisconsin.

Other geographic descriptions are contained in a later portion of this document.

Definitions

Dark geese: Canada geese, white-fronted geese, brant (except in Alaska, California, Oregon, Washington, and the Atlantic Flyway), and all other goose species, except light geese.

Light geese: Snow (including blue) geese and Ross's geese.

Waterfowl Seasons in the Atlantic Flyway

In the Atlantic Flyway States of Connecticut, Delaware, Maine, Maryland, Massachusetts, New Jersey, North Carolina, Pennsylvania, and Virginia, where Sunday hunting is prohibited Statewide by State law, all Sundays are closed to all take of migratory waterfowl (including mergansers and coots).

Special September Teal Season

Outside Dates: Between September 1 and September 30, an open season on all species of teal may be selected by the following States in areas delineated by State regulations:

Atlantic Flyway—Delaware, Florida, Georgia, Maryland, North Carolina, South Carolina, and Virginia.

Mississippi Flyway—Alabama, Arkansas, Illinois, Indiana, Kentucky, Louisiana, Mississippi, Missouri, Ohio, and Tennessee.

Central Flyway—Colorado (part), Kansas, Nebraska (part), New Mexico (part), Oklahoma, and Texas.

Hunting Seasons and Daily Bag Limits: Not to exceed 16 consecutive hunting days in the Atlantic, Mississippi, and Central Flyways. The daily bag limit is 6 teal.

Shooting Hours:

Atlantic Flyway—One-half hour before sunrise to sunset.

Mississippi and Central Flyways—One-half hour before sunrise to sunset, except in the States of Arkansas, Illinois, Indiana, Missouri, and Ohio, where the hours are from sunrise to sunset.

Special September Duck Seasons

Florida, Kentucky and Tennessee: In lieu of a special September teal season, a 5-consecutive-day season may be selected in September. The daily bag limit may not exceed 4 teal and wood ducks in the aggregate, of which no more than 2 may be wood ducks.

Iowa: Iowa may hold up to 5 days of its regular duck hunting season in September. All ducks that are legal during the regular duck season may be taken during the September segment of the season. The September season segment may commence no earlier than the Saturday nearest September 20 (September 21). The daily bag and possession limits will be the same as those in effect last year but are subject to change during the late-season regulations process. The remainder of the regular duck season may not begin before October 10.

Special Youth Waterfowl Hunting Days

Outside Dates: States may select 2 days per duck-hunting zone, designated as “Youth Waterfowl Hunting Days,” in addition to their regular duck seasons. The days must be held outside any regular duck season on a weekend, holidays, or other non-school days when youth hunters would have the maximum opportunity to participate. The days may be held up to 14 days before or after any regular duck-season frameworks or within any split of a regular duck season, or within any other open season on migratory birds.

Daily Bag Limits: The daily bag limits may include ducks, geese, mergansers, coots, and gallinules and will be the same as those allowed in the regular season. Flyway species and area restrictions will remain in effect.

Shooting Hours: One-half hour before sunrise to sunset.

Participation Restrictions: Youth hunters must be 15 years of age or younger. In addition, an adult at least 18 years of age must accompany the youth hunter into the field. This adult may not duck hunt but may participate in other seasons that are open on the special youth day.

Scoters, Eiders, and Long-Tailed Ducks (Atlantic Flyway)

Outside Dates: Between September 15 and January 31.

Hunting Seasons and Daily Bag Limits: Not to exceed 107 days, with a daily bag limit of 7, singly or in the aggregate, of the listed sea duck species, of which no more than 4 may be scoters.

Daily Bag Limits During the Regular Duck Season: Within the special sea duck areas, during the regular duck season in the Atlantic Flyway, States may choose to allow the above sea duck limits in addition to the limits applying to other ducks during the regular duck season. In all other areas, sea ducks may be taken only during the regular open season for ducks and are part of the regular duck season daily bag (not to exceed 4 scoters) and possession limits.

Areas: In all coastal waters and all waters of rivers and streams seaward from the first upstream bridge in Maine, New Hampshire, Massachusetts, Rhode Island, Connecticut, and New York; in any waters of the Atlantic Ocean and in any tidal waters of any bay which are separated by at least 1 mile of open water from any shore, island, and emergent vegetation in New Jersey, South Carolina, and Georgia; and in any waters of the Atlantic Ocean and in any tidal waters of any bay which are separated by at least 800 yards of open water from any shore, island, and emergent vegetation in Delaware, Maryland, North Carolina, and Virginia; and provided that any such areas have been described, delineated, and designated as special sea duck hunting areas under the hunting regulations adopted by the respective States.

Special Early Canada Goose Seasons

Atlantic Flyway

General Seasons

A Canada goose season of up to 15 days during September 1-15 may be selected for the Eastern Unit of Maryland. Seasons not to exceed 30 days during September 1-30 may be selected for Connecticut, Florida, Georgia, New Jersey, New York (Long Island Zone only), North Carolina, Rhode Island, and South Carolina. Seasons may not exceed 25 days during September 1-25 in the remainder of the Flyway. Areas open to the hunting of Canada geese must be described, delineated, and designated as such in each State's hunting regulations.

Daily Bag Limits: Not to exceed 15 Canada geese.

Shooting Hours: One-half hour before sunrise to sunset, except that during any general season, shooting hours may extend to one-half hour after sunset if all other waterfowl seasons are closed in the specific applicable area.

Mississippi Flyway

General Seasons

Canada goose seasons of up to 15 days during September 1-15 may be selected, except in the Upper Peninsula in Michigan, where the season may not extend beyond September 10, and in Minnesota, where a season of up to 22 days during September 1-22 may be selected. The daily bag limit may not exceed 5 Canada geese, except in designated areas of Minnesota where the daily bag limit may not exceed 10 Canada geese. Areas open to the hunting of Canada geese must be described, delineated, and designated as such in each State's hunting regulations.

A Canada goose season of up to 10 consecutive days during September 1-10 may be selected by Michigan for Huron, Saginaw, and Tuscola Counties, except that the Shiawassee National Wildlife Refuge, Shiawassee River State Game Area Refuge, and the Fish Point Wildlife Area Refuge will remain closed. The daily bag limit may not exceed 5 Canada geese.

Shooting Hours: One-half hour before sunrise to sunset, except that during September 1-15 shooting hours may extend to one-half hour after sunset if all other waterfowl seasons are closed in the specific applicable area.

Central Flyway

General Seasons

In Kansas, Nebraska, Oklahoma, South Dakota, and Texas, Canada goose seasons of up to 30 days during September 1-30 may be selected. In Colorado, New Mexico, North Dakota, Montana, and Wyoming, Canada goose seasons of up to 15 days during September 1-15 may be selected. The daily bag limit may not exceed 5 Canada geese, except in Kansas, Nebraska, and Oklahoma, where the daily bag limit may not exceed 8 Canada geese and in North Dakota and South Dakota, where the daily bag limit may not exceed 15 Canada geese. Areas open to the hunting of Canada geese must be described, delineated, and designated as such in each State's hunting regulations.

Shooting Hours: One-half hour before sunrise to sunset, except that during September 1-15 shooting hours may extend to one-half hour after sunset if all other waterfowl seasons are closed in the specific applicable area.

Pacific Flyway

General Seasons

California may select a 9-day season in Humboldt County during the period September 1-15. The daily bag limit is 2.

Colorado may select a 9-day season during the period of September 1-15. The daily bag limit is 4.

Oregon may select a special Canada goose season of up to 15 days during the period September 1-15. In addition, in the NW Goose Management Zone in Oregon, a 15-day season may be selected during the period September 1-20. Daily bag limits may not exceed 5 Canada geese.

Idaho may select a 7-day season during the period September 1-15. The daily bag limit is 2.

Washington may select a special Canada goose season of up to 15 days during the period September 1-15. Daily bag limits may not exceed 5 Canada geese.

Wyoming may select an 8-day season on Canada geese during the period September 1-15. This season is subject to the following conditions:

A. Where applicable, the season must be concurrent with the September portion of the sandhill crane season.

B. A daily bag limit of 3, with season and possession limits of 9, will apply to the special season.

Areas open to hunting of Canada geese in each State must be described, delineated, and designated as such in each State's hunting regulations.

Regular Goose Seasons

Regular goose seasons may open as early as September 11 in the Upper Peninsula of Michigan and September 16 in Wisconsin and the Lower Peninsula of Michigan. Season lengths, bag and possession limits, and other provisions will be established during the late-season regulations process.

Sandhill Cranes

Regular Seasons in the Mississippi Flyway

Outside Dates: Between September 1 and February 28.

Hunting Seasons: A season not to exceed 37 consecutive days may be selected in the designated portion of northwestern Minnesota (Northwest Goose Zone).

Daily Bag Limit: 2 sandhill cranes.

Permits: Each person participating in the regular sandhill crane season must have a valid Federal or State sandhill crane hunting permit.

Experimental Seasons in the Mississippi Flyway

Outside Dates: Between September 1 and January 31.

Hunting Seasons: A season not to exceed 30 consecutive days may be selected in Kentucky and a season not to exceed 60 consecutive days may be selected in Tennessee.

Daily Bag Limit: Not to exceed 2 daily and 2 per season in Kentucky. Not to exceed 3 daily and 3 per season in Tennessee.

Permits: Each person participating in the regular sandhill crane season must have a valid Federal or State sandhill crane hunting permit.

Other Provisions: Numbers of permits, open areas, season dates, protection plans for other species, and other provisions of seasons must be consistent with the management plan and approved by the Mississippi Flyway Council.

Regular Seasons in the Central Flyway

Outside Dates: Between September 1 and February 28.

Hunting Seasons: Seasons not to exceed 37 consecutive days may be selected in designated portions of Texas (Area 2). Seasons not to exceed 58 consecutive days may be selected in designated portions of the following States: Colorado, Kansas, Montana, North Dakota, South Dakota, and Wyoming. Seasons not to exceed 93 consecutive days may be selected in designated portions of the following States: New Mexico, Oklahoma, and Texas.

Daily Bag Limits: 3 sandhill cranes, except 2 sandhill cranes in designated portions of North Dakota (Area 2) and Texas (Area 2).

Permits: Each person participating in the regular sandhill crane season must have a valid Federal or State sandhill crane hunting permit.

Special Seasons in the Central and Pacific Flyways

Arizona, Colorado, Idaho, Montana, New Mexico, Utah, and Wyoming may select seasons for hunting sandhill cranes within the range of the Rocky Mountain Population (RMP) subject to the following conditions:

Outside Dates: Between September 1 and January 31.

Hunting Seasons: The season in any State or zone may not exceed 30 consecutive days.

Bag limits: Not to exceed 3 daily and 9 per season.

Permits: Participants must have a valid permit, issued by the appropriate State, in their possession while hunting.

Other Provisions: Numbers of permits, open areas, season dates, protection plans for other species, and other provisions of seasons must be consistent with the management plan and approved by the Central and Pacific Flyway Councils, with the following exceptions:

A. In Utah, 100 percent of the harvest will be assigned to the RMP quota;

B. In Arizona, monitoring the racial composition of the harvest must be conducted at 3-year intervals;

C. In Idaho, 100 percent of the harvest will be assigned to the RMP quota; and

D. In New Mexico, the season in the Estancia Valley is experimental, with a requirement to monitor the level and racial composition of the harvest; greater sandhill cranes in the harvest will be assigned to the RMP quota.

Special Seasons in the Pacific Flyway

Arizona may select a season for hunting sandhill cranes within the range of the Lower Colorado River Population (LCR) of sandhill cranes, subject to the following conditions:

Outside Dates: Between January 1 and January 31.

Hunting Seasons: The season may not exceed 3 days.

Bag limits: Not to exceed 1 daily and 1 per season.

Permits: Participants must have a valid permit, issued by the appropriate State, in their possession while hunting.

Other provisions: The season is experimental. Numbers of permits, open areas, season dates, protection plans for other species, and other provisions of seasons must be consistent with the management plan and approved by the Pacific Flyway Council.

Common Moorhens and Purple Gallinules

Outside Dates: Between September 1 and the last Sunday in January (January 26) in the Atlantic, Mississippi, and Central Flyways. States in the Pacific Flyway have been allowed to select their hunting seasons between the outside dates for the season on ducks; therefore, they are late-season frameworks, and no frameworks are provided in this document.

Hunting Seasons and Daily Bag Limits: Seasons may not exceed 70 days in the Atlantic, Mississippi, and Central Flyways. Seasons may be split into 2 segments. The daily bag limit is 15 common moorhens and purple gallinules, singly or in the aggregate of the two species.

Zoning: Seasons may be selected by zones established for duck hunting.

Rails

Outside Dates: States included herein may select seasons between September 1 and the last Sunday in January (January 26) on clapper, king, sora, and Virginia rails.

Hunting Seasons: Seasons may not exceed 70 days, and may be split into 2 segments.

Daily Bag Limits:

Clapper and King Rails—In Rhode Island, Connecticut, New Jersey, Delaware, and Maryland, 10, singly or in the aggregate of the two species. In Texas, Louisiana, Mississippi, Alabama, Georgia, Florida, South Carolina, North Carolina, and Virginia, 15, singly or in the aggregate of the two species.

Sora and Virginia Rails—In the Atlantic, Mississippi, and Central Flyways and the Pacific Flyway portions of Colorado, Montana, New Mexico, and Wyoming, 25 rails, singly or in the aggregate of the two species. The season is closed in the remainder of the Pacific Flyway.

Common Snipe

Outside Dates: Between September 1 and February 28, except in Maine, Vermont, New Hampshire, Massachusetts, Rhode Island, Connecticut, New York, New Jersey, Delaware, Maryland, and Virginia, where the season must end no later than January 31.

Hunting Seasons and Daily Bag Limits: Seasons may not exceed 107 days and may be split into two segments. The daily bag limit is 8 snipe.

Zoning: Seasons may be selected by zones established for duck hunting.

American Woodcock

Outside Dates: States in the Eastern Management Region may select hunting seasons between October 1 and January 31. States in the Central Management Region may select hunting seasons between the Saturday nearest September 22 (September 21) and January 31.

Hunting Seasons and Daily Bag Limits: Seasons may not exceed 45 days in the Eastern Region and 45 days in the Central Region. The daily bag limit is 3. Seasons may be split into two segments.

Zoning: New Jersey may select seasons in each of two zones. The season in each zone may not exceed 36 days.

Band-Tailed Pigeons

Pacific Coast States (California, Oregon, Washington, and Nevada)

Outside Dates: Between September 15 and January 1.

Hunting Seasons and Daily Bag Limits: Not more than 9 consecutive days, with a daily bag limit of 2 band-tailed pigeons.

Zoning: California may select hunting seasons not to exceed 9 consecutive days in each of two zones. The season in the North Zone must close by October 3.

Four-Corners States (Arizona, Colorado, New Mexico, and Utah)

Outside Dates: Between September 1 and November 30.

Hunting Seasons and Daily Bag Limits: Not more than 30 consecutive days, with a daily bag limit of 5 band-tailed pigeons.

Zoning: New Mexico may select hunting seasons not to exceed 20 consecutive days in each of two zones. The season in the South Zone may not open until October 1.

Doves

Outside Dates: Between September 1 and January 15, except as otherwise provided, States may select hunting seasons and daily bag limits as follows:

Eastern Management Unit

Hunting Seasons and Daily Bag Limits: Not more than 70 days, with a daily bag limit of 15 mourning and white-winged doves in the aggregate.

Zoning and Split Seasons: States may select hunting seasons in each of two zones. The season within each zone may be split into not more than three periods. Regulations for bag and possession limits, season length, and shooting hours must be uniform within specific hunting zones.

Central Management Unit

For all States except Texas:

Hunting Seasons and Daily Bag Limits: Not more than 70 days, with a daily bag limit of 15 mourning and white-winged doves in the aggregate.

Zoning and Split Seasons: States may select hunting seasons in each of two zones. The season within each zone may be split into not more than three periods.

Texas:

Hunting Seasons and Daily Bag Limits: Not more than 70 days, with a daily bag limit of 15 mourning, white-winged, and white-tipped doves in the aggregate, of which no more than 2 may be white-tipped doves.

Zoning and Split Seasons: Texas may select hunting seasons for each of three zones subject to the following conditions:

A. The hunting season may be split into not more than two periods, except in that portion of Texas in which the special white-winged dove season is allowed, where a limited take of mourning and white-tipped doves may also occur during that special season (see Special White-winged Dove Area).

B. A season may be selected for the North and Central Zones between September 1 and January 25; and for the South Zone between the Friday nearest September 20 (September 20), but not earlier than September 17, and January 25.

C. Except as noted above, regulations for bag and possession limits, season length, and shooting hours must be uniform within each hunting zone.

Special White-winged Dove Area in Texas:

In addition, Texas may select a hunting season of not more than 4 days for the Special White-winged Dove Area of the South Zone between September 1 and September 19. The daily bag limit may not exceed 15 white-winged, mourning, and white-tipped doves in the aggregate, of which no more than 2 may be mourning doves and no more than 2 may be white-tipped doves.

Western Management Unit

Hunting Seasons and Daily Bag Limits:

Idaho, Nevada, Oregon, Utah, and Washington—Not more than 30 consecutive days, with a daily bag limit of 10 mourning and white-winged doves in the aggregate.

Arizona and California—Not more than 60 days, which may be split between two periods, September 1-15 and November 1-January 15. In Arizona, during the first segment of the season, the daily bag limit is 10 mourning and white-winged doves in the aggregate. During the remainder of the season, the daily bag limit is 10 mourning doves. In California, the daily bag limit is 10 mourning and white-winged doves in the aggregate.

Alaska

Outside Dates: Between September 1 and January 26.

Hunting Seasons: Alaska may select 107 consecutive days for waterfowl, sandhill cranes, and common snipe in each of 5 zones. The season may be split without penalty in the Kodiak Zone. The seasons in each zone must be concurrent.

Closures: The hunting season is closed on emperor geese, spectacled eiders, and Steller's eiders.

Daily Bag and Possession Limits:

Ducks—Except as noted, a basic daily bag limit of 7 ducks. Daily bag limits in the North Zone are 10, and in the Gulf Coast Zone, they are 8. The basic limits may include no more than 1 canvasback daily and may not include sea ducks.

In addition to the basic duck limits, Alaska may select sea duck limits of 10 daily, singly or in the aggregate, including no more than 6 each of either harlequin or long-tailed ducks. Sea ducks include scoters, common and king eiders, harlequin ducks, long-tailed ducks, and common and red-breasted mergansers.

Light Geese—A basic daily bag limit of 4.

Dark Geese—A basic daily bag limit of 4.

Dark-goose seasons are subject to the following exceptions:

A. In Units 5 and 6, the taking of Canada geese is permitted from September 28 through December 16.

B. On Middleton Island in Unit 6, a special, permit-only Canada goose season may be offered. A mandatory goose identification class is required. Hunters must check in and check out. The bag limit is 1 daily and 1 in possession. The season will close if incidental harvest includes 5 dusky Canada geese. A dusky Canada goose is any dark-breasted Canada goose (Munsell 10 YR color value five or less) with a bill length between 40 and 50 millimeters.

C. In Units 6-B, 6-C, and on Hinchinbrook and Hawkins Islands in Unit 6-D, a special, permit-only Canada goose season may be offered. Hunters must have all harvested geese checked and classified to subspecies. The daily bag limit is 4 daily. The Canada goose season will close in all of the permit areas if the total dusky goose (as defined above) harvest reaches 40.

D. In Units 9, 10, 17, and 18, dark goose limits are 6 per day.

Brant—A daily bag limit of 2.

Common snipe—A daily bag limit of 8.

Sandhill cranes—Bag limit of 2 in the Southeast, Gulf Coast, Kodiak, and Aleutian Zones, and Unit 17 in the Northern Zone. In the remainder of the Northern Zone (outside Unit 17), bag limit of 3.

Tundra Swans—Open seasons for tundra swans may be selected subject to the following conditions:

A. All seasons are by registration permit only.

B. All season framework dates are September 1-October 31.

C. In Game Management Unit (GMU) 17, no more than 200 permits may be issued during this operational season. No more than 3 tundra swans may be authorized per permit, with no more than 1 permit issued per hunter per season.

D. In Game Management Unit (GMU) 18, no more than 500 permits may be issued during the operational season. Up to 3 tundra swans may be authorized per permit. No more than 1 permit may be issued per hunter per season.

E. In GMU 22, no more than 300 permits may be issued during the operational season. Each permittee may be authorized to take up to 3 tundra swans per permit. No more than 1 permit may be issued per hunter per season.

F. In GMU 23, no more than 300 permits may be issued during the operational season. No more than 3 tundra swans may be authorized per permit, with no more than 1 permit issued per hunter per season.

Hawaii

Outside Dates: Between October 1 and January 31.

Hunting Seasons: Not more than 65 days (75 under the alternative) for mourning doves.

Bag Limits: Not to exceed 15 (12 under the alternative) mourning doves.

Note: Mourning doves may be taken in Hawaii in accordance with shooting hours and other regulations set by the State of Hawaii, and subject to the applicable provisions of 50 CFR part 20.

Puerto Rico

Doves and Pigeons

Outside Dates: Between September 1 and January 15.

Hunting Seasons: Not more than 60 days.

Daily Bag and Possession Limits: Not to exceed 20 Zenaida, mourning, and white-winged doves in the aggregate, of which not more than 10 may be Zenaida doves and 3 may be mourning doves. Not to exceed 5 scaly-naped pigeons.

Closed Seasons: The season is closed on the white-crowned pigeon and the plain pigeon, which are protected by the Commonwealth of Puerto Rico.

Closed Areas: There is no open season on doves or pigeons in the following areas: Municipality of Culebra, Desecheo Island, Mona Island, El Verde Closure Area, and Cidra Municipality and adjacent areas.

Ducks, Coots, Moorhens, Gallinules, and Snipe

Outside Dates: Between October 1 and January 31.

Hunting Seasons: Not more than 55 days may be selected for hunting ducks, common moorhens, and common snipe. The season may be split into two segments.

Daily Bag Limits:

Ducks—Not to exceed 6.

Common moorhens—Not to exceed 6.

Common snipe—Not to exceed 8.

Closed Seasons: The season is closed on the ruddy duck, white-cheeked pintail, West Indian whistling duck, fulvous whistling duck, and masked duck, which are protected by the Commonwealth of Puerto Rico. The season also is closed on the purple gallinule, American coot, and Caribbean coot.

Closed Areas: There is no open season on ducks, common moorhens, and common snipe in the Municipality of Culebra and on Desecheo Island.

Virgin Islands

Doves and Pigeons

Outside Dates: Between September 1 and January 15.

Hunting Seasons: Not more than 60 days for Zenaida doves.

Daily Bag and Possession Limits: Not to exceed 10 Zenaida doves.

Closed Seasons: No open season is prescribed for ground or quail doves or pigeons.

Closed Areas: There is no open season for migratory game birds on Ruth Cay (just south of St. Croix).

Local Names for Certain Birds: Zenaida dove, also known as mountain dove; bridled quail-dove, also known as Barbary dove or partridge; common ground-dove, also known as stone dove, tobacco dove, rola, or tortolita; scaly-naped pigeon, also known as red-necked or scaled pigeon.

Ducks

Outside Dates: Between December 1 and January 31.

Hunting Seasons: Not more than 55 consecutive days.

Daily Bag Limits: Not to exceed 6.

Closed Seasons: The season is closed on the ruddy duck, white-cheeked pintail, West Indian whistling duck, fulvous whistling duck, and masked duck.

Special Falconry Regulations

Falconry is a permitted means of taking migratory game birds in any State meeting Federal falconry standards in 50 CFR 21.29. These States may select an extended season for taking migratory game birds in accordance with the following:

Extended Seasons: For all hunting methods combined, the combined length of the extended season, regular season, and any special or experimental seasons must not exceed 107 days for any species or group of species in a geographical area. Each extended season may be divided into a maximum of 3 segments.

Framework Dates: Seasons must fall between September 1 and March 10.

Daily Bag Limits: Falconry daily bag limits for all permitted migratory game birds must not exceed 3 birds, singly or in the aggregate, during extended falconry seasons, any special or experimental seasons, and regular hunting seasons in all States, including those that do not select an extended falconry season.

Regular Seasons: General hunting regulations, including seasons and hunting hours, apply to falconry in each State listed in 50 CFR 21.29. Regular season bag limits do not apply to falconry. The falconry bag limit is not in addition to gun limits.

Area, Unit, and Zone Descriptions

Doves

Alabama

South Zone—Baldwin, Barbour, Coffee, Covington, Dale, Escambia, Geneva, Henry, Houston, and Mobile Counties.

North Zone—Remainder of the State.

California

White-winged Dove Open Areas—Imperial, Riverside, and San Bernardino Counties.

Florida

Northwest Zone—The Counties of Bay, Calhoun, Escambia, Franklin, Gadsden, Gulf, Holmes, Jackson, Liberty, Okaloosa, Santa Rosa, Walton, Washington, Leon (except that portion north of U.S. 27 and east of State Road 155), Jefferson (south of U.S. 27, west of State Road 59 and north of U.S. 98), and Wakulla (except that portion south of U.S. 98 and east of the St. Marks River).

South Zone—Remainder of State.

Louisiana

North Zone—That portion of the State north of a line extending east from the Texas border along State Highway 12 to U.S. Highway 190, east along U.S. 190 to Interstate Highway 12, east along Interstate 12 to Interstate Highway 10, then east along Interstate Highway 10 to the Mississippi border.

South Zone—The remainder of the State.

Mississippi

North Zone—That portion of the State north and west of a line extending west from the Alabama State line along U.S. Highway 84 to its junction with State Highway 35, then south along State Highway 35 to the Louisiana State line.

South Zone—The remainder of Mississippi.

Texas

North Zone—That portion of the State north of a line beginning at the International Bridge south of Fort Hancock; north along FM 1088 to TX 20; west along TX 20 to TX 148; north along TX 148 to I-10 at Fort Hancock; east along I-10 to I-20; northeast along I-20 to I-30 at Fort Worth; northeast along I-30 to the Texas-Arkansas State line.

South Zone—That portion of the State south and west of a line beginning at the International Bridge south of Del Rio, proceeding east on U.S. 90 to State Loop 1604 west of San Antonio; then south, east, and north along Loop 1604 to Interstate Highway 10 east of San Antonio; then east on I-10 to Orange, Texas.

Special White-winged Dove Area in the South Zone—That portion of the state south and west of a line beginning at the International Toll Bridge in Del Rio; then northeast along U.S. Highway 277 Spur to Highway 90 in Del Rio; thence east along U.S. Highway 90 to State Loop 1604; thence along Loop 1604 south and east to Interstate Highway 37; thence south along Interstate Highway 37 to U.S. Highway 181 in Corpus Christi; thence north and east along U.S. 181 to the Corpus Christi Ship Channel, thence eastwards along the south shore of the Corpus Christi Ship Channel to the Gulf of Mexico.

Central Zone—That portion of the State lying between the North and South Zones.

Band-Tailed Pigeons

California

North Zone—Alpine, Butte, Del Norte, Glenn, Humboldt, Lassen, Mendocino, Modoc, Plumas, Shasta, Sierra, Siskiyou, Tehama, and Trinity Counties.

South Zone—The remainder of the State.

New Mexico

North Zone—North of a line following U.S. 60 from the Arizona State line east to I-25 at Socorro and then south along I-25 from Socorro to the Texas State line.

South Zone—The remainder of the State.

Washington

Western Washington—The State of Washington excluding those portions lying east of the Pacific Crest Trail and east of the Big White Salmon River in Klickitat County.

Woodcock

New Jersey

North Zone—That portion of the State north of NJ 70.

South Zone—The remainder of the State.

Special September Canada Goose Seasons

Atlantic Flyway

Connecticut

North Zone—That portion of the State north of I-95.

South Zone—The remainder of the State.

Maryland

Eastern Unit—Calvert, Caroline, Cecil, Dorchester, Harford, Kent, Queen Anne's, St. Mary's, Somerset, Talbot, Wicomico, and Worcester Counties; and that part of Anne Arundel County east of Interstate 895, Interstate 97 and Route 3; that part of Prince George's County east of Route 3 and Route 301; and that part of Charles County east of Route 301 to the Virginia State line.

Western Unit—Allegany, Baltimore, Carroll, Frederick, Garrett, Howard, Montgomery, and Washington Counties and that part of Anne Arundel County west of Interstate 895, Interstate 97 and Route 3; that part of Prince George's County west of Route 3 and Route 301; and that part of Charles County west of Route 301 to the Virginia State line.

Massachusetts

Western Zone—That portion of the State west of a line extending south from the Vermont border on I-91 to MA 9, west on MA 9 to MA 10, south on MA 10 to U.S. 202, south on U.S. 202 to the Connecticut border.

Central Zone—That portion of the State east of the Berkshire Zone and west of a line extending south from the New Hampshire border on I-95 to U.S. 1, south on U.S. 1 to I-93, south on I-93 to MA 3, south on MA 3 to U.S. 6, west on U.S. 6 to MA 28, west on MA 28 to I-195, west to the Rhode Island border; except the waters, and the lands 150 yards inland from the high-water mark, of the Assonet River upstream to the MA 24 bridge, and the Taunton River upstream to the Center St.-Elm St. bridge will be in the Coastal Zone.

Coastal Zone—That portion of Massachusetts east and south of the Central Zone.

New York

Lake Champlain Zone—The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Eastern Long Island Goose Area (North Atlantic Population (NAP) High Harvest Area)—That area of Suffolk County lying east of a continuous line extending due south from the New York-Connecticut boundary to the northernmost end of Roanoke Avenue in the Town of Riverhead; then south on Roanoke Avenue (which becomes County Route 73) to State Route 25; then west on Route 25 to Peconic Avenue; then south on Peconic Avenue to County Route (CR) 104 (Riverleigh Avenue); then south on CR 104 to CR 31 (Old Riverhead Road); then south on CR 31 to Oak Street; then south on Oak Street to Potunk Lane; then west on Stevens Lane; then south on Jessup Avenue (in Westhampton Beach) to Dune Road (CR 89); then due south to international waters.

Western Long Island Goose Area (Resident Population (RP) Area)—That area of Westchester County and its tidal waters southeast of Interstate Route 95 and that area of Nassau and Suffolk Counties lying west of a continuous line extending due south from the New York-Connecticut boundary to the northernmost end of the Sunken Meadow State Parkway; then south on the Sunken Meadow Parkway to the Sagtikos State Parkway; then south on the Sagtikos Parkway to the Robert Moses State Parkway; then south on the Robert Moses Parkway to its southernmost end; then due south to international waters.

Central Long Island Goose Area (NAP Low Harvest Area)—That area of Suffolk County lying between the Western and Eastern Long Island Goose Areas, as defined above.

Western Zone—That area west of a line extending from Lake Ontario east along the north shore of the Salmon River to I-81, and south along I-81 to the Pennsylvania border.

Northeastern Zone—That area north of a line extending from Lake Ontario east along the north shore of the Salmon River to I-81, south along I-81 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone—The remaining portion of New York.

Pennsylvania

Southern James Bay Population (SJBP) Zone—The area north of I-80 and west of I-79, including in the city of Erie west of Bay Front Parkway to and including the Lake Erie Duck Zone (Lake Erie, Presque Isle, and the area within 150 yards of the Lake Erie Shoreline).

Vermont

Lake Champlain Zone—The U.S. portion of Lake Champlain and that area north and west of the line extending from the New York border along U.S. 4 to VT 22A at Fair Haven; VT 22A to U.S. 7 at Vergennes; U.S. 7 to VT 78 at Swanton; VT 78 to VT 36; VT 36 to Maquam Bay on Lake Champlain; along and around the shoreline of Maquam Bay and Hog Island to VT 78 at the West Swanton Bridge; VT 78 to VT 2 in Alburg; VT 2 to the Richelieu River in Alburg; along the east shore of the Richelieu River to the Canadian border.

Interior Zone—That portion of Vermont east of the Lake Champlain Zone and west of a line extending from the Massachusetts border at Interstate 91; north along Interstate 91 to US 2; east along US 2 to VT 102; north along VT 102 to VT 253; north along VT 253 to the Canadian border.

Connecticut River Zone—The remaining portion of Vermont east of the Interior Zone.

Mississippi Flyway

Arkansas

Early Canada Goose Area—Baxter, Benton, Boone, Carroll, Clark, Conway, Crawford, Faulkner, Franklin, Garland, Hempstead, Hot Springs, Howard, Johnson, Lafayette, Little River, Logan, Madison, Marion, Miller, Montgomery, Newton, Perry, Pike, Polk, Pope, Pulaski, Saline, Searcy, Sebastian, Sevier, Scott, Van Buren, Washington, and Yell Counties.

Illinois

North September Canada Goose Zone—That portion of the State north of a line extending west from the Indiana border along Interstate 80 to I-39, south along I-39 to Illinois Route 18, west along Illinois Route 18 to Illinois Route 29, south along Illinois Route 29 to Illinois Route 17, west along Illinois Route 17 to the Mississippi River, and due south across the Mississippi River to the Iowa border.

Central September Canada Goose Zone—That portion of the State south of the North September Canada Goose Zone line to a line extending west from the Indiana border along I-70 to Illinois Route 4, south along Illinois Route 4 to Illinois Route 161, west along Illinois Route 161 to Illinois Route 158, south and west along Illinois Route 158 to Illinois Route 159, south along Illinois Route 159 to Illinois Route 3, south along Illinois Route 3 to St. Leo's Road, south along St. Leo's road to Modoc Road, west along Modoc Road to Modoc Ferry Road, southwest along Modoc Ferry Road to Levee Road, southeast along Levee Road to County Route 12 (Modoc Ferry entrance Road), south along County Route 12 to the Modoc Ferry route and southwest on the Modoc Ferry route across the Mississippi River to the Missouri border.

South September Canada Goose Zone—That portion of the State south and east of a line extending west from the Indiana border along Interstate 70, south along U.S. Highway 45, to Illinois Route 13, west along Illinois Route 13 to Greenbriar Road, north on Greenbriar Road to Sycamore Road, west on Sycamore Road to N. Reed Station Road, south on N. Reed Station Road to Illinois Route 13, west along Illinois Route 13 to Illinois Route 127, south along Illinois Route 127 to State Forest Road (1025 N), west along State Forest Road to Illinois Route 3, north along Illinois Route 3 to the south bank of the Big Muddy River, west along the south bank of the Big Muddy River to the Mississippi River, west across the Mississippi River to the Missouri border.

South Central September Canada Goose Zone—The remainder of the State between the south border of the Central Zone and the North border of the South Zone

Iowa

North Zone—That portion of the State north of U.S. Highway 20.

South Zone—The remainder of Iowa.

Cedar Rapids/Iowa City Goose Zone—Includes portions of Linn and Johnson Counties bounded as follows: Beginning at the intersection of the west border of Linn County and Linn County Road E2W; then south and east along County Road E2W to Highway 920; then north along Highway 920 to County Road E16; then east along County Road E16 to County Road W58; then south along County Road W58 to County Road E34; then east along County Road E34 to Highway 13; then south along Highway 13 to Highway 30; then east along Highway 30 to Highway 1; then south along Highway 1 to Morse Road in Johnson County; then east along Morse Road to Wapsi Avenue; then south along Wapsi Avenue to Lower West Branch Road; then west along Lower West Branch Road to Taft Avenue; then south along Taft Avenue to County Road F62; then west along County Road F62 to Kansas Avenue; then north along Kansas Avenue to Black Diamond Road; then west on Black Diamond Road to Jasper Avenue; then north along Jasper Avenue to Rohert Road; then west along Rohert Road to Ivy Avenue; then north along Ivy Avenue to 340th Street; then west along 340th Street to Half Moon Avenue; then north along Half Moon Avenue to Highway 6; then west along Highway 6 to Echo Avenue; then north along Echo Avenue to 250th Street; then east on 250th Street to Green Castle Avenue; then north along Green Castle Avenue to County Road F12; then west along County Road F12 to County Road W30; then north along County Road W30 to Highway 151; then north along the Linn-Benton County line to the point of beginning.

Des Moines Goose Zone—Includes those portions of Polk, Warren, Madison and Dallas Counties bounded as follows: Beginning at the intersection of Northwest 158th Avenue and County Road R38 in Polk County; then south along R38 to Northwest 142nd Avenue; then east along Northwest 142nd Avenue to Northeast 126th Avenue; then east along Northeast 126th Avenue to Northeast 46th Street; then south along Northeast 46th Street to Highway 931; then east along Highway 931 to Northeast 80th Street; then south along Northeast 80th Street to Southeast 6th Avenue; then west along Southeast 6th Avenue to Highway 65; then south and west along Highway 65 to Highway 69 in Warren County; then south along Highway 69 to County Road G24; then west along County Road G24 to Highway 28; then southwest along Highway 28 to 43rd Avenue; then north along 43rd Avenue to Ford Street; then west along Ford Street to Filmore Street; then west along Filmore Street to 10th Avenue; then south along 10th Avenue to 155th Street in Madison County; then west along 155th Street to Cumming Road; then north along Cumming Road to Badger Creek Avenue; then north along Badger Creek Avenue to County Road F90 in Dallas County; then east along County Road F90 to County Road R22; then north along County Road R22 to Highway 44; then east along Highway 44 to County Road R30; then north along County Road R30 to County Road F31; then east along County Road F31 to Highway 17; then north along Highway 17 to Highway 415 in Polk County; then east along Highway 415 to Northwest 158th Avenue; then east along Northwest 158th Avenue to the point of beginning.

Cedar Falls/Waterloo Goose Zone—Includes those portions of Black Hawk County bounded as follows: Beginning at the intersection of County Roads C66 and V49 in Black Hawk County, then south along County Road V49 to County Road D38, then west along County Road D38 to State Highway 21, then south along State Highway 21 to County Road D35, then west along County Road D35 to Grundy Road, then north along Grundy Road to County Road D19, then west along County Road D19 to Butler Road, then north along Butler Road to County Road C57, then north and east along County Road C57 to U.S. Highway 63, then south along U.S. Highway 63 to County Road C66, then east along County Road C66 to the point of beginning.

Michigan

North Zone—Same as North duck zone.

Middle Zone—Same as Middle duck zone.

South Zone—Same as South duck zone.

Minnesota

Northwest Goose Zone—That portion of the State encompassed by a line extending east from the North Dakota border along U.S. Highway 2 to State Trunk Highway (STH) 32, north along STH 32 to STH 92, east along STH 92 to County State Aid Highway (CSAH) 2 in Polk County, north along CSAH 2 to CSAH 27 in Pennington County, north along CSAH 27 to STH 1, east along STH 1 to CSAH 28 in Pennington County, north along CSAH 28 to CSAH 54 in Marshall County, north along CSAH 54 to CSAH 9 in Roseau County, north along CSAH 9 to STH 11, west along STH 11 to STH 310, and north along STH 310 to the Manitoba border.

Intensive Harvest Zone—That portion of the State encompassed by a line extending east from the junction of US 2 and the North Dakota border, US 2 east to MN 32 N, MN 32 N to MN 92 S, MN 92 S to MN 200 E, MN 200 E to US 71 S, US 71 S to US 10 E, US 10 E to MN 101 S, MN 101 S to Interstate 94 E, Interstate 94 East to US 494 S, US 494 S to US 212 W, US 212 W to MN 23 S, MN 23 S to US 14 W, US 14 W to the South Dakota border, South Dakota Border north to the North Dakota border, North Dakota border north to US 2 E.

Rest of State: Remainder of Minnesota.

Wisconsin

Early-Season Subzone A—That portion of the State encompassed by a line beginning at the intersection of U.S. Highway 141 and the Michigan border near Niagara, then south along U.S. 141 to State Highway 22, west and southwest along State 22 to U.S. 45, south along U.S. 45 to State 22, west and south along State 22 to State 110, south along State 110 to U.S. 10, south along U.S. 10 to State 49, south along State 49 to State 23, west along State 23 to State 73, south along State 73 to State 60, west along State 60 to State 23, south along State 23 to State 11, east along State 11 to State 78, then south along State 78 to the Illinois border.

Early-Season Subzone B—The remainder of the State.

Central Flyway

North Dakota

Missouri River Canada Goose Zone—The area within and bounded by a line starting where ND Hwy 6 crosses the South Dakota border; then north on ND Hwy 6 to I-94; then west on I-94 to ND Hwy 49; then north on ND Hwy 49 to ND Hwy 200; then north on Mercer County Rd. 21 to the section line between sections 8 and 9 (T146N-R87W); then north on that section line to the southern shoreline to Lake Sakakawea; then east along the southern shoreline (including Mallard Island) of Lake Sakakawea to US Hwy 83; then south on US Hwy 83 to ND Hwy 200; then east on ND Hwy 200 to ND Hwy 41; then south on ND Hwy 41 to US Hwy 83; then south on US Hwy 83 to I-94; then east on I-94 to US Hwy 83; then south on US Hwy 83 to the South Dakota border; then west along the South Dakota border to ND Hwy 6.

Rest of State—Remainder of North Dakota.

South Dakota

Special Early Canada Goose Unit—The Counties of Campbell, Marshall, Roberts, Day, Clark, Codington, Grant, Hamlin, Deuel, Walworth; that portion of Dewey County north of Bureau of Indian Affairs Road 8, Bureau of Indian Affairs Road 9, and the section of U.S. Highway 212 east of the Bureau of Indian Affairs Road 8 junction; that portion of Potter County east of U.S. Highway 83; that portion of Sully County east of U.S. Highway 83; portions of Hyde, Buffalo, Brule, and Charles Mix counties north and east of a line beginning at the Hughes-Hyde County line on State Highway 34, east to Lees Boulevard, southeast to the State Highway 34, east 7 miles to 350th Avenue, south to Interstate 90 on 350th Avenue, south and east on State Highway 50 to Geddes, east on 285th Street to U.S. Highway 281, and north on U.S. Highway 281 to the Charles Mix-Douglas County boundary; that portion of Bon Homme County north of State Highway 50; that portion of Fall River County west of State Highway 71 and U.S. Highway 385; that portion of Custer County west of State Highway 79 and north of French Creek; McPherson, Edmunds, Kingsbury, Brookings, Lake, Moody, Miner, Faulk, Hand, Jerauld, Douglas, Hutchinson, Turner, Lincoln, Union, Clay, Yankton, Aurora, Beadle, Davison, Hanson, Sanborn, Spink, Brown, Harding, Butte, Lawrence, Meade, Pennington, Shannon, Jackson, Mellette, Todd, Jones, Haakon, Corson, Ziebach, McCook, and Minnehaha Counties.

Texas

Eastern Goose Zone—East of a line from the International Toll Bridge at Laredo, north following IH-35 and 35W to Fort Worth, northwest along U.S. Hwy. 81 and 287 to Bowie, north along U.S. Hwy. 81 to the Texas-Oklahoma State line.

Pacific Flyway

Idaho

East Zone—Bonneville, Caribou, Fremont, and Teton Counties.

Oregon

Northwest Zone—Benton, Clackamas, Clatsop, Columbia, Lane, Lincoln, Linn, Marion, Polk, Multnomah, Tillamook, Washington, and Yamhill Counties.

Southwest Zone—Coos, Curry, Douglas, Jackson, Josephine, and Klamath Counties.

East Zone—Baker, Gilliam, Malheur, Morrow, Sherman, Umatilla, Union, and Wasco Counties.

Washington

Area 1—Skagit, Island, and Snohomish Counties.

Area 2A (SW Quota Zone)—Clark County, except portions south of the Washougal River; Cowlitz County; and Wahkiakum County.

Area 2B (SW Quota Zone)—Pacific County.

Area 3—All areas west of the Pacific Crest Trail and west of the Big White Salmon River that are not included in Areas 1, 2A, and 2B.

Area 4—Adams, Benton, Chelan, Douglas, Franklin, Grant, Kittitas, Lincoln, Okanogan, Spokane, and Walla Walla Counties.

Area 5—All areas east of the Pacific Crest Trail and east of the Big White Salmon River that are not included in Area 4.

Ducks

Atlantic Flyway

New York

Lake Champlain Zone—The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Long Island Zone—That area consisting of Nassau County, Suffolk County, that area of Westchester County southeast of I-95, and their tidal waters.

Western Zone—That area west of a line extending from Lake Ontario east along the north shore of the Salmon River to I-81, and south along I-81 to the Pennsylvania border.

Northeastern Zone—That area north of a line extending from Lake Ontario east along the north shore of the Salmon River to I-81, south along I-81 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone—The remaining portion of New York.

Maryland

Special Teal Season Area— Calvert, Caroline, Cecil, Dorchester, Harford, Kent, Queen Anne's, St. Mary's, Somerset, Talbot, Wicomico, and Worcester Counties; that part of Anne Arundel County east of Interstate 895, Interstate 97, and Route 3; that part of Prince Georges County east of Route 3 and Route 301; and that part of Charles County east of Route 301 to the Virginia State Line.

Mississippi Flyway

Indiana

North Zone—That part of Indiana north of a line extending east from the Illinois border along State Road 18 to U.S. 31; north along U.S. 31 to U.S. 24; east along U.S. 24 to Huntington; southeast along U.S. 224; south along State Road 5; and east along State Road 124 to the Ohio border.

Central Zone—That part of Indiana south of the North Zone boundary and north of the South Zone boundary.

South Zone—That part of Indiana south of a line extending east from the Illinois border along U.S. 40; south along U.S. 41; east along State Road 58; south along State Road 37 to Bedford; and east along U.S. 50 to the Ohio border.

Iowa

North Zone—That portion of Iowa north of a line beginning on the South Dakota-Iowa border at Interstate 29, southeast along Interstate 29 to State Highway 175, east along State Highway 175 to State Highway 37, southeast along State Highway 37 to State Highway 183, northeast along State Highway 183 to State Highway 141, east along State Highway 141 to U.S. Highway 30, and along U.S. Highway 30 to the Illinois border.

Missouri River Zone—That portion of Iowa west of a line beginning on the South Dakota-Iowa border at Interstate 29, southeast along Interstate 29 to State Highway 175, and west along State Highway 175 to the Iowa-Nebraska border.

South Zone—The remainder of Iowa.

Michigan

North Zone: The Upper Peninsula.

Middle Zone: That portion of the Lower Peninsula north of a line beginning at the Wisconsin State line in Lake Michigan due west of the mouth of Stony Creek in Oceana County; then due east to, and easterly and southerly along the south shore of Stony Creek to Scenic Drive, easterly and southerly along Scenic Drive to Stony Lake Road, easterly along Stony Lake and Garfield Roads to Michigan Highway 20, east along Michigan 20 to U.S. Highway 10 Business Route (BR) in the city of Midland, easterly along U.S. 10 BR to U.S. 10, easterly along U.S. 10 to Interstate Highway 75/U.S. Highway 23, northerly along I-75/U.S. 23 to the U.S. 23 exit at Standish, easterly along U.S. 23 to the centerline of the Au Gres River, then southerly along the centerline of the Au Gres River to Saginaw Bay, then on a line directly east 10 miles into Saginaw Bay, and from that point on a line directly northeast to the Canadian border.

South Zone: The remainder of Michigan.

Wisconsin

North Zone: That portion of the State north of a line extending east from the Minnesota State line along U.S. Highway 10 into Portage County to County Highway HH, east on County Highway HH to State Highway 66 and then east on State Highway 66 to U.S. Highway 10, continuing east on U.S. Highway 10 to U.S. Highway 41, then north on U.S. Highway 41 to the Michigan State line.

Mississippi River Zone: That area encompassed by a line beginning at the intersection of the Burlington Northern & Santa Fe Railway and the Illinois State line in Grant County and extending northerly along the Burlington Northern & Santa Fe Railway to the city limit of Prescott in Pierce County, then west along the Prescott city limit to the Minnesota State line.

South Zone: The remainder of Wisconsin.

Central Flyway

Colorado

Special Teal Season Area—Lake and Chaffee Counties and that portion of the State east of Interstate Highway 25.

Kansas

High Plains Zone—That portion of the State west of U.S. 283.

Early Zone—That part of Kansas bounded by a line from the Nebraska-Kansas State line south on K-128 to its junction with U.S.-36, then east on U.S.-36 to its junction with K-199, then south on K-199 to its junction with Republic County 30 Rd, then south on Republic County 30 Rd to its junction with K-148, then east on K-148 to its junction with Republic County 50 Rd, then south on Republic County 50 Rd to its junction with Cloud County 40th Rd, then south on Cloud County 40th Rd to its junction with K-9, then west on K-9 to its junction with U.S.-24, then west on U.S.-24 to its junction with U.S.-281, then north on U.S.-281 to its junction with U.S.-36, then west on U.S.-36 to its junction with U.S.-183, then south on U.S.-183 to its junction with U.S.-24, then west on U.S.-24 to its junction with K-18, then southeast on K-18 to its junction with U.S.-183, then south on U.S.-183 to its junction with K-4, then east on K-4 to its junction with I-135, then south on I-135 to its junction with K-61, then southwest on K-61 to McPherson County.

14th Avenue, then south on McPherson County 14th Avenue to its junction with Arapaho Rd, then west on Arapaho Rd to its junction with K-61, then southwest on K-61 to its junction with K-96, then northwest on K-96 to its junction with U.S.-56, then southwest on U.S.-56 to its junction with K-19, then east on K-19 to its junction with U.S.-281, then south on U.S.-281 to its junction with U.S.-54, then west on U.S.-54 to its junction with U.S.-183, then north on U.S.-183 to its junction with U.S.-56, then southwest on U.S.-56 to its junction with Ford County Rd 126, then south on Ford County Rd 126 to its junction with U.S.-400, then northwest on U.S.-400 to its junction with U.S.-283, then north on U.S.-283 to its junction with the Nebraska-Kansas State line, then east along the Nebraska-Kansas State line to its junction with K-128.

Late Zone—That part of Kansas bounded by a line from the Nebraska-Kansas State line south on K-128 to its junction with U.S.-36, then east on U.S.-36 to its junction with K-199, then south on K-199 to its junction with Republic County 30 Rd, then south on Republic County 30 Rd to its junction with K-148, then east on K-148 to its junction with Republic County 50 Rd, then south on Republic County 50 Rd to its junction with Cloud County 40th Rd, then south on Cloud County 40th Rd to its junction with K-9, then west on K-9 to its junction with U.S.-24, then west on U.S.-24 to its junction with U.S.-281, then north on U.S.-281 to its junction with U.S.-36, then west on U.S.-36 to its junction with U.S.-183, then south on U.S.-183 to its junction with U.S.-24, then west on U.S.-24 to its junction with K-18, then southeast on K-18 to its junction with U.S.-183, then south on U.S.-183 to its junction with K-4, then east on K-4 to its junction with I-135, then south on I-135 to its junction with K-61, then southwest on K-61 to 14th Avenue, then south on 14th Avenue to its junction with Arapaho Rd, then west on Arapaho Rd to its junction with K-61, then southwest on K-61 to its junction with K-96, then northwest on K-96 to its junction with U.S.-56, then southwest on U.S.-56 to its junction with K-19, then east on K-19 to its junction with U.S.-281, then south on U.S.-281 to its junction with U.S.-54, then west on U.S.-54 to its junction with U.S.-183, then north on U.S.-183 to its junction with U.S.-56, then southwest on U.S.-56 to its junction with Ford County Rd 126, then south on Ford County Rd 126 to its junction with U.S.-400, then northwest on U.S.-400 to its junction with U.S.-283, then south on U.S.-283 to its junction with the Oklahoma-Kansas State line, then east along the Oklahoma-Kansas State line to its junction with U.S.-77, then north on U.S.-77 to its junction with Butler County, NE 150th Street, then east on Butler County, NE 150th Street to its junction with U.S.-35, then northeast on U.S.-35 to its junction with K-68, then east on K-68 to the Kansas-Missouri State line, then north along the Kansas-Missouri State line to its junction with the Nebraska State line, then west along the Kansas-Nebraska State line to its junction with K-128.

Southeast Zone—That part of Kansas bounded by a line from the Missouri-Kansas State line west on K-68 to its junction with U.S.-35, then southwest on U.S.-35 to its junction with Butler County, NE 150th Street, then west on NE 150th Street until its junction with K-77, then south on K-77 to the Oklahoma-Kansas State line, then east along the Kansas-Oklahoma State line to its junction with the Missouri State line, then north along the Kansas-Missouri State line to its junction with K-68.

Nebraska

Special Teal Season Area—That portion of the State south of a line beginning at the Wyoming State line; east along U.S. 26 to Nebraska Highway L62A east to U.S. 385; south to U.S. 26; east to NE 92; east along NE 92 to NE 61; south along NE 61 to U.S. 30; east along U.S. 30 to the Iowa border.

High Plains—That portion of Nebraska lying west of a line beginning at the South Dakota-Nebraska border on U.S. Hwy. 183; south on U.S. Hwy. 183 to U.S. Hwy. 20; west on U.S. Hwy. 20 to NE Hwy. 7; south on NE Hwy. 7 to NE Hwy. 91; southwest on NE Hwy. 91 to NE Hwy. 2; southeast on NE Hwy. 2 to NE Hwy. 92; west on NE Hwy. 92 to NE Hwy. 40; south on NE Hwy. 40 to NE Hwy. 47; south on NE Hwy. 47 to NE Hwy. 23; east on NE Hwy. 23 to U.S. Hwy. 283; and south on U.S. Hwy. 283 to the Kansas-Nebraska border.

Zone 1—Area bounded by designated Federal and State highways and political boundaries beginning at the South Dakota-Nebraska border west of NE Hwy. 26E Spur and north of NE Hwy. 12; those portions of Dixon, Cedar and Knox Counties north of NE Hwy. 12; that portion of Keya Paha County east of U.S. Hwy. 183; and all of Boyd County. Both banks of the Niobrara River in Keya Paha and Boyd counties east of U.S. Hwy. 183 shall be included in Zone 1.

Zone 2—The area south of Zone 1 and north of Zone 3.

Zone 3—Area bounded by designated Federal and State highways, County Roads, and political boundaries beginning at the Wyoming-Nebraska border at the intersection of the Interstate Canal; east along northern borders of Scotts Bluff and Morrill Counties to Broadwater Road; south to Morrill County Rd 94; east to County Rd 135; south to County Rd 88; southeast to County Rd 151; south to County Rd 80; east to County Rd 161; south to County Rd 76; east to County Rd 165; south to Country Rd 167; south to U.S. Hwy. 26; east to County Rd 171; north to County Rd 68; east to County Rd 183; south to County Rd 64; east to County Rd 189; north to County Rd 70; east to County Rd 201; south to County Rd 60A; east to County Rd 203; south to County Rd 52; east to Keith County Line; east along the northern boundaries of Keith and Lincoln Counties to NE Hwy. 97; south to U.S. Hwy 83; south to E Hall School Rd; east to N Airport Road; south to U.S. Hwy. 30; east to Merrick County Rd 13; north to County Rd O; east to NE Hwy. 14; north to NE Hwy. 52; west and north to NE Hwy. 91; west to U.S. Hwy. 281; south to NE Hwy. 22; west to NE Hwy. 11; northwest to NE Hwy. 91; west to U.S. Hwy. 183; south to Round Valley Rd; west to Sargent River Rd; west to Sargent Rd; west to Milburn Rd; north to Blaine County Line; east to Loup County Line; north to NE Hwy. 91; west to North Loup Spur Rd; north to North Loup River Rd; east to Pleasant Valley/Worth Rd; east to Loup County Line; north to Loup-Brown county line; east along northern boundaries of Loup and Garfield Counties to Cedar River Rd; south to NE Hwy. 70; east to U.S. Hwy. 281; north to NE Hwy. 70; east to NE Hwy. 14; south to NE Hwy. 39; southeast to NE Hwy. 22; east to U.S. Hwy. 81; southeast to U.S. Hwy. 30; east to U.S. Hwy. 75; north to the Washington County line; east to the Iowa-Nebraska border; south to the Missouri-Nebraska border; south to Kansas-Nebraska border; west along Kansas-Nebraska border to Colorado-Nebraska border; north and west to Wyoming-Nebraska border; north to intersection of Interstate Canal; and excluding that area in Zone 4.

Zone 4—Area encompassed by designated Federal and State highways and County Roads beginning at the intersection of NE Hwy. 8 and U.S. Hwy. 75; north to U.S. Hwy. 136; east to the intersection of U.S. Hwy. 136 and the Steamboat Trace (Trace); north along the Trace to the intersection with Federal Levee R-562; north along Federal Levee R-562 to the intersection with the Trace; north along the Trace/Burlington Northern Railroad right-of-way to NE Hwy. 2; west to U.S. Hwy. 75; north to NE Hwy. 2; west to NE Hwy. 43; north to U.S. Hwy. 34; east to NE Hwy. 63; north to NE Hwy. 66; north and west to U.S. Hwy. 77; north to NE Hwy. 92; west to NE Hwy. Spur 12F; south to Butler County Rd 30; east to County Rd X; south to County Rd 27; west to County Rd W; south to County Rd 26; east to County Rd X; south to County Rd 21 (Seward County Line); west to NE Hwy. 15; north to County Rd 34; west to County Rd J; south to NE Hwy. 92; west to U.S. Hwy. 81; south to NE Hwy. 66; west to Polk County Rd C; north to NE Hwy. 92; west to U.S. Hwy. 30; west to Merrick County Rd 17; south to Hordlake Road; southeast to Prairie Island Road; southeast to Hamilton County Rd T; south to NE Hwy. 66; west to NE Hwy. 14; south to County Rd 22; west to County Rd M; south to County Rd 21; west to County Rd K; south to U.S. Hwy. 34; west to NE Hwy. 2; south to U.S. Hwy. I-80; west to Gunbarrel Rd (Hall/Hamilton county line); south to Giltner Rd; west to U.S. Hwy. 281; south to U.S. Hwy. 34; west to NE Hwy. 10; north to Kearney County Rd R and Phelps County Rd 742; west to U.S. Hwy. 283; south to U.S. Hwy 34; east to U.S. Hwy. 136; east to U.S. Hwy. 183; north to NE Hwy. 4; east to NE Hwy. 10; south to U.S. Hwy. 136; east to NE Hwy. 14; south to NE Hwy. 8; east to U.S. Hwy. 81; north to NE Hwy. 4; east to NE Hwy. 15; south to U.S. Hwy. 136; east to NE Hwy. 103; south to NE Hwy. 8; east to U.S. Hwy. 75.

New Mexico (Central Flyway Portion)

North Zone—That portion of the State north of I-40 and U.S. 54.

South Zone—The remainder of New Mexico.

Pacific Flyway

California

Northeastern Zone—In that portion of California lying east and north of a line beginning at the intersection of Interstate 5 with the California-Oregon line; south along Interstate 5 to its junction with Walters Lane south of the town of Yreka; west along Walters Lane to its junction with Easy Street; south along Easy Street to the junction with Old Highway 99; south along Old Highway 99 to the point of intersection with Interstate 5 north of the town of Weed; south along Interstate 5 to its junction with Highway 89; east and south along Highway 89 to Main Street Greenville; north and east to its junction with North Valley Road; south to its junction of Diamond Mountain Road; north and east to its junction with North Arm Road; south and west to the junction of North Valley Road; south to the junction with Arlington Road (A22); west to the junction of Highway 89; south and west to the junction of Highway 70; east on Highway 70 to Highway 395; south and east on Highway 395 to the point of intersection with the California-Nevada State line; north along the California-Nevada State line to the junction of the California-Nevada-Oregon State lines west along the California-Oregon State line to the point of origin.

Colorado River Zone—Those portions of San Bernardino, Riverside, and Imperial Counties east of a line extending from the Nevada border south along U.S. 95 to Vidal Junction; south on a road known as “Aqueduct Road” in San Bernardino County through the town of Rice to the San Bernardino-Riverside County line; south on a road known in Riverside County as the “Desert Center to Rice Road” to the town of Desert Center; east 31 miles on I-10 to the Wiley Well Road; south on this road to Wiley Well; southeast along the Army-Milpitas Road to the Blythe, Brawley, Davis Lake intersections; south on the Blythe-Brawley paved road to the Ogilby and Tumco Mine Road; south on this road to U.S. 80; east 7 miles on U.S. 80 to the Andrade-Algodones Road; south on this paved road to the Mexican border at Algodones, Mexico.

Southern Zone—That portion of southern California (but excluding the Colorado River Zone) south and east of a line extending from the Pacific Ocean east along the Santa Maria River to CA 166 near the City of Santa Maria; east on CA 166 to CA 99; south on CA 99 to the crest of the Tehachapi Mountains at Tejon Pass; east and north along the crest of the Tehachapi Mountains to CA 178 at Walker Pass; east on CA 178 to U.S. 395 at the town of Inyokern; south on U.S. 395 to CA 58; east on CA 58 to I-15; east on I-15 to CA 127; north on CA 127 to the Nevada border.

Southern San Joaquin Valley Temporary Zone—All of Kings and Tulare Counties and that portion of Kern County north of the Southern Zone.

Balance-of-the-State Zone—The remainder of California not included in the Northeastern, Southern, and Colorado River Zones, and the Southern San Joaquin Valley Temporary Zone.

Canada Geese

Michigan

North Zone—Same as North duck zone.

Middle Zone—Same as Middle duck zone.

South Zone—Same as South duck zone.

Tuscola/Huron Goose Management Unit (GMU): Those portions of Tuscola and Huron Counties bounded on the south by Michigan Highway 138 and Bay City Road, on the east by Colwood and Bay Port Roads, on the north by Kilmanagh Road and a line extending directly west off the end of Kilmanagh Road into Saginaw Bay to the west boundary, and on the west by the Tuscola-Bay County line and a line extending directly north off the end of the Tuscola-Bay County line into Saginaw Bay to the north boundary.

Allegan County GMU: That area encompassed by a line beginning at the junction of 136th Avenue and Interstate Highway 196 in Lake Town Township and extending easterly along 136th Avenue to Michigan Highway 40, southerly along Michigan 40 through the city of Allegan to 108th Avenue in Trowbridge Township, westerly along 108th Avenue to 46th Street, northerly along 46th Street to 109th Avenue, westerly along 109th Avenue to I-196 in Casco Township, then northerly along I-196 to the point of beginning.

Saginaw County GMU: That portion of Saginaw County bounded by Michigan Highway 46 on the north; Michigan 52 on the west; Michigan 57 on the south; and Michigan 13 on the east.

Muskegon Wastewater GMU: That portion of Muskegon County within the boundaries of the Muskegon County wastewater system, east of the Muskegon State Game Area, in sections 5, 6, 7, 8, 17, 18, 19, 20, 29, 30, and 32, T10N R14W, and sections 1, 2, 10, 11, 12, 13, 14, 24, and 25, T10N R15W, as posted.

Wisconsin

Same zones as for ducks but in addition:

Horicon Zone: That area encompassed by a line beginning at the intersection of State Highway 21 and the Fox River in Winnebago County and extending westerly along State 21 to the west boundary of Winnebago County, southerly along the west boundary of Winnebago County to the north boundary of Green Lake County, westerly along the north boundaries of Green Lake and Marquette Counties to State 22, southerly along State 22 to State 33, westerly along State 33 to Interstate Highway 39, southerly along Interstate Highway 39 to Interstate Highway 90/94, southerly along I-90/94 to State 60, easterly along State 60 to State 83, northerly along State 83 to State 175, northerly along State 175 to State 33, easterly along State 33 to U.S. Highway 45, northerly along U.S. 45 to the east shore of the Fond Du Lac River, northerly along the east shore of the Fond Du Lac River to Lake Winnebago, northerly along the western shoreline of Lake Winnebago to the Fox River, then westerly along the Fox River to State 21.

Exterior Zone: That portion of the State not included in the Horicon Zone.

Mississippi River Subzone: That area encompassed by a line beginning at the intersection of the Burlington Northern & Santa Fe Railway and the Illinois State line in Grant County and extending northerly along the Burlington Northern & Santa Fe Railway to the city limit of Prescott in Pierce County, then west along the Prescott city limit to the Minnesota State line.

Brown County Subzone: That area encompassed by a line beginning at the intersection of the Fox River with Green Bay in Brown County and extending southerly along the Fox River to State Highway 29, northwesterly along State 29 to the Brown County line, south, east, and north along the Brown County line to Green Bay, due west to the midpoint of the Green Bay Ship Channel, then southwesterly along the Green Bay Ship Channel to the Fox River.

Sandhill Cranes

Mississippi Flyway

Minnesota

Northwest Goose Zone—That portion of the State encompassed by a line extending east from the North Dakota border along U.S. Highway 2 to State Trunk Highway (STH) 32, north along STH 32 to STH 92, east along STH 92 to County State Aid Highway (CSAH) 2 in Polk County, north along CSAH 2 to CSAH 27 in Pennington County, north along CSAH 27 to STH 1, east along STH 1 to CSAH 28 in Pennington County, north along CSAH 28 to CSAH 54 in Marshall County, north along CSAH 54 to CSAH 9 in Roseau County, north along CSAH 9 to STH 11, west along STH 11 to STH 310, and north along STH 310 to the Manitoba border.

Tennessee

Hunt Zone—That portion of the State south of Interstate 40 and east of State Highway 56.

Closed Zone—Remainder of the State.

Central Flyway

Colorado—The Central Flyway portion of the State except the San Luis Valley (Alamosa, Conejos, Costilla, Hinsdale, Mineral, Rio Grande, and Saguache Counties east of the Continental Divide) and North Park (Jackson County).

Kansas—That portion of the State west of a line beginning at the Oklahoma border, north on I-35 to Wichita, north on I-135 to Salina, and north on U.S. 81 to the Nebraska border.

Montana—The Central Flyway portion of the State except for that area south and west of Interstate 90, which is closed to sandhill crane hunting.

New Mexico

Regular-Season Open Area—Chaves, Curry, De Baca, Eddy, Lea, Quay, and Roosevelt Counties.

Middle Rio Grande Valley Area—The Central Flyway portion of New Mexico in Socorro and Valencia Counties.

Estancia Valley Area—Those portions of Santa Fe, Torrance and Bernallilo Counties within an area bounded on the west by New Mexico Highway 55 beginning at Mountainair north to NM 337, north to NM 14, north to I-25; on the north by I-25 east to U.S. 285; on the east by U.S. 285 south to U.S. 60; and on the south by U.S. 60 from U.S. 285 west to NM 55 in Mountainair.

Southwest Zone—Area bounded on the south by the New Mexico/Mexico border; on the west by the New Mexico/Arizona border north to Interstate 10; on the north by Interstate 10 east to U.S. 180, north to N.M. 26, east to N.M. 27, north to N.M. 152, and east to Interstate 25; on the east by Interstate 25 south to Interstate 10, west to the Luna county line, and south to the New Mexico/Mexico border.

North Dakota

Area 1—That portion of the State west of U.S. 281.

Area 2—That portion of the State east of U.S. 281.

Oklahoma—That portion of the State west of I-35.

South Dakota—That portion of the State west of U.S. 281.

Texas

Zone A—That portion of Texas lying west of a line beginning at the international toll bridge at Laredo, then northeast along U.S. Highway 81 to its junction with Interstate Highway 35 in Laredo, then north along Interstate Highway 35 to its junction with Interstate Highway 10 in San Antonio, then northwest along Interstate Highway 10 to its junction with U.S. Highway 83 at Junction, then north along U.S. Highway 83 to its junction with U.S. Highway 62, 16 miles north of Childress, then east along U.S. Highway 62 to the Texas-Oklahoma State line.

Zone B—That portion of Texas lying within boundaries beginning at the junction of U.S. Highway 81 and the Texas-Oklahoma State line, then southeast along U.S. Highway 81 to its junction with U.S. Highway 287 in Montague County, then southeast along U.S. Highway 287 to its junction with Interstate Highway 35W in Fort Worth, then southwest along Interstate Highway 35 to its junction with Interstate Highway 10 in San Antonio, then northwest along Interstate Highway 10 to its junction with U.S. Highway 83 in the town of Junction, then north along U.S. Highway 83 to its junction with U.S. Highway 62, 16 miles north of Childress, then east along U.S. Highway 62 to the Texas-Oklahoma State line, then south along the Texas-Oklahoma State line to the south bank of the Red River, then eastward along the vegetation line on the south bank of the Red River to U.S. Highway 81.

Zone C—The remainder of the State, except for the closed areas.

Closed areas—(A) That portion of the State lying east and north of a line beginning at the junction of U.S. Highway 81 and the Texas-Oklahoma State line, then southeast along U.S. Highway 81 to its junction with U.S. Highway 287 in Montague County, then southeast along U.S. Highway 287 to its junction with Interstate Highway 35W in Fort Worth, then southwest along Interstate Highway 35 to its junction with U.S. Highway 290 East in Austin, then east along U.S. Highway 290 to its junction with Interstate Loop 610 in Harris County, then south and east along Interstate Loop 610 to its junction with Interstate Highway 45 in Houston, then south on Interstate Highway 45 to State Highway 342, then to the shore of the Gulf of Mexico, and then north and east along the shore of the Gulf of Mexico to the Texas-Louisiana State line.

(B) That portion of the State lying within the boundaries of a line beginning at the Kleberg-Nueces County line and the shore of the Gulf of Mexico, then west along the County line to Park Road 22 in Nueces County, then north and west along Park Road 22 to its junction with State Highway 358 in Corpus Christi, then west and north along State Highway 358 to its junction with State Highway 286, then north along State Highway 286 to its junction with Interstate Highway 37, then east along Interstate Highway 37 to its junction with U.S. Highway 181, then north and west along U.S. Highway 181 to its junction with U.S. Highway 77 in Sinton, then north and east along U.S. Highway 77 to its junction with U.S. Highway 87 in Victoria, then south and east along U.S. Highway 87 to its junction with State Highway 35 at Port Lavaca, then north and east along State Highway 35 to the south end of the Lavaca Bay Causeway, then south and east along the shore of Lavaca Bay to its junction with the Port Lavaca Ship Channel, then south and east along the Lavaca Bay Ship Channel to the Gulf of Mexico, and then south and west along the shore of the Gulf of Mexico to the Kleberg-Nueces County line.

Wyoming

Regular Season Open Area—Campbell, Converse, Crook, Goshen, Laramie, Niobrara, Platte, and Weston Counties, and portions of Johnson and Sheridan Counties.

Riverton-Boysen Unit—Portions of Fremont County.

Park and Big Horn County Unit—All of Big Horn, Hot Springs, Park and Washakie Counties.

Pacific Flyway

Arizona

Special Season Area—Game Management Units 28, 30A, 30B, 31, and 32.

Idaho

Special Season Area—See State regulations.

Montana

Special Season Area—See State regulations.

Utah

Special Season Area—Rich, Cache, and Unitah Counties and that portion of Box Elder County beginning on the Utah-Idaho State line at the Box Elder-Cache County line; west on the State line to the Pocatello Valley County Road; south on the Pocatello Valley County Road to I-15; southeast on I-15 to SR-83; south on SR-83 to Lamp Junction; west and south on the Promontory Point County Road to the tip of Promontory Point; south from Promontory Point to the Box Elder-Weber County line; east on the Box Elder-Weber County line to the Box Elder-Cache County line; north on the Box Elder-Cache County line to the Utah-Idaho State line.

Wyoming

Bear River Area—That portion of Lincoln County described in State regulations.

Salt River Area—That portion of Lincoln County described in State regulations.

Farson-Eden Area—Those portions of Sweetwater and Sublette Counties described in State regulations.

Uinta County Area—That portion of Uinta County described in State regulations.

All Migratory Game Birds in Alaska

North Zone—State Game Management Units 11-13 and 17-26.

Gulf Coast Zone—State Game Management Units 5-7, 9, 14-16, and 10 (Unimak Island only).

Southeast Zone—State Game Management Units 1-4.

Pribilof and Aleutian Islands Zone—State Game Management Unit 10 (except Unimak Island).

Kodiak Zone—State Game Management Unit 8.

All Migratory Game Birds in the Virgin Islands

Ruth Cay Closure Area—The island of Ruth Cay, just south of St. Croix.

All Migratory Game Birds in Puerto Rico

Municipality of Culebra Closure Area—All of the municipality of Culebra.

Desecheo Island Closure Area—All of Desecheo Island.

Mona Island Closure Area—All of Mona Island.

Verde Closure Area—Those areas of the municipalities of Rio Grande and Loiza delineated as follows: (1) All lands between Routes 956 on the west and 186 on the east, from Route 3 on the north to the juncture of Routes 956 and 186 (Km 13.2) in the south; (2) all lands between Routes 186 and 966 from the juncture of 186 and 966 on the north, to the Caribbean National Forest Boundary on the south; (3) all lands lying west of Route 186 for 1 kilometer from the juncture of Routes 186 and 956 south to Km 6 on Route 186; (4) all lands within Km 14 and Km 6 on the west and the Caribbean National Forest Boundary on the east; and (5) all lands within the Caribbean National Forest Boundary whether private or public.

Cidra Municipality and adjacent areas—All of Cidra Municipality and portions of Aguas Buenas, Caguas, Cayey, and Comerio Municipalities as encompassed within the following boundary: Beginning on Highway 172 as it leaves the municipality of Cidra on the west edge, north to Highway 156, east on Highway 156 to Highway 1, south on Highway 1 to Highway 765, south on Highway 765 to Highway 763, south on Highway 763 to the Rio Guavate, west along Rio Guavate to Highway 1, southwest on Highway 1 to Highway 14, west on Highway 14 to Highway 729, north on Highway 729 to Cidra Municipality boundary to the point of the beginning.

[FR Doc. 2013-17876 Filed 7-25-13; 8:45 am]

BILLING CODE 4310-55-P